DEPARTMENT OF COMMERCE

National Oceanic and Atmospheric Administration

50 CFR Part 679

[Docket No. 111207737-2141-02]

RIN 0648-XA711

Fisheries of the Exclusive Economic Zone Off Alaska; Gulf of Alaska; Final 2012 and 2013 Harvest Specifications for Groundfish

AGENCY: National Marine Fisheries Service (NMFS), National Oceanic and Atmospheric Administration (NOAA), Commerce.

ACTION: Final rule; closures.

SUMMARY: NMFS announces final 2012 and 2013 harvest specifications, apportionments, and Pacific halibut prohibited species catch limits for the groundfish fishery of the Gulf of Alaska (GOA). This action is necessary to establish harvest limits for groundfish during the 2012 and 2013 fishing years and to accomplish the goals and objectives of the Fishery Management Plan for Groundfish of the GOA. The intended effect of this action is to conserve and manage the groundfish resources in the GOA in accordance with the Magnuson-Stevens Fishery Conservation and Management Act.

DATES: Effective at 1200 hrs, Alaska local time (A.l.t.), March 14, 2012, through 2400 hrs, A.l.t., December 31, 2013.

ADDRESSES: Electronic copies of the Final Alaska Groundfish Harvest Specifications Environmental Impact Statement (EIS), Record of Decision (ROD), Supplementary Information Report (SIR) to the EIS, and the Final Regulatory Flexibility Analysis (FRFA) prepared for this action are available from http://alaskafisheries.noaa.gov. The final 2011 Stock Assessment and Fishery Evaluation (SAFE) report for the groundfish resources of the GOA, dated November 2011, is available from the North Pacific Fishery Management Council (Council) at 605 West 4th Avenue, Suite 306, Anchorage, AK 99510-2252, phone 907-271-2809, or from the Council's Web site at http://alaskafisheries.noaa.gov/npfmc.

FOR FURTHER INFORMATION CONTACT: Tom Pearson, 907-481-1780, or Obren Davis, 907-586-7228.

SUPPLEMENTARY INFORMATION: NMFS manages the GOA groundfish fisheries in the exclusive economic zone (EEZ) of the GOA under the Fishery Management Plan for Groundfish of the Gulf of Alaska (FMP). The Council prepared the FMP under the authority of the Magnuson-Stevens Fishery Conservation and Management Act (Magnuson-Stevens Act), 16 U.S.C. 1801 et seq. Regulations governing U.S. fisheries and implementing the FMP appear at 50 CFR parts 600, 679, and 680.

The FMP and its implementing regulations require NMFS, after consultation with the Council, to specify the total allowable catch (TAC) for each target species, the sum of which must be within the optimum yield (OY) range of 116,000 to 800,000 metric tons (mt). Section 679.20(c)(1) further requires NMFS to publish and solicit public comment on proposed annual TACs, halibut prohibited species catch (PSC) amounts, and seasonal allowances of pollock and Pacific cod. Upon consideration of public comment received under § 679.20(c)(1), NMFS must publish notice of final harvest specifications for up to two fishing years as annual target TAC, per § 679.20(c)(3)(ii). The final harvest specifications set forth in Tables 1 through 31 of this document reflect the outcome of this process, as required at § 679.20(c).

The proposed 2012 and 2013 harvest specifications for groundfish of the GOA and Pacific halibut PSC allowances were published in the Federal Register on December 22, 2011 (76 FR 79620). Comments were invited and accepted through January 23, 2012. NMFS received one response, containing two general categories of comments, on the proposed harvest specifications. A summary of the comments and NMFS' responses is found in the Response to Comment section of this rule. In December 2011, NMFS consulted with the Council regarding the 2012 and 2013 harvest specifications. After considering public testimony, as well as biological and economic data that were available at the Council's December 2011 meeting, NMFS is implementing the final 2012 and 2013 harvest specifications, as recommended by the Council. For 2012, the sum of the TAC amounts is 438,159 mt. For 2013, the sum of the TAC amounts is 447,752 mt.

Acceptable Biological Catch (ABC) and TAC Specifications

In December 2011, the Council, its Advisory Panel (AP), and its Scientific and Statistical Committee (SSC), reviewed current biological and harvest information about the condition of groundfish stocks in the GOA. This information was compiled by the Council's GOA Plan Team and was presented in the draft 2011 SAFE report for the GOA groundfish fisheries, dated November 2011 (see ADDRESSES). The SAFE report contains a review of the latest scientific analyses and estimates of each species' biomass and other biological parameters, as well as summaries of the available information on the GOA ecosystem and the economic condition of the groundfish fisheries off Alaska. From these data and analyses, the Plan Team estimates an overfishing level (OFL) and ABC for each species or species group. The 2011 SAFE report was made available for public review during the public comment period for the proposed harvest specifications.

In previous years, the largest changes from the proposed to the final harvest specifications have been based on recent NMFS stock surveys, which provide updated estimates of stock biomass and spatial distribution, and changes to the models used for making stock assessments. In October 2011, the Council also reviewed the proposed TACs recommended for several flatfish and other rockfish species, adjusting them downward from ABCs. At the November 2011 Plan Team meeting, NMFS scientists presented updated and new survey results, changes to assessment models, and accompanying stock estimates for all groundfish species and species groups that are included in the final 2011 SAFE report. The SSC reviewed this information at the December 2011 Council meeting. Changes from the proposed to the final harvest specifications in 2012 and 2013 for newly assessed groundfish stocks are discussed below.

The final 2012 and 2013 OFLs, ABCs, and TACs are based on the best available biological and socioeconomic information, including projected biomass trends, information on assumed distribution of stock biomass, and revised methods used to calculate stock biomass. The FMP specifies the formulas, or tiers, to be used to compute ABCs and OFLs. The formulas applicable to a particular stock or stock complex are determined by the level of reliable information available to fisheries scientists. This information is categorized into a successive series of six tiers to define OFL and ABC amounts, with tier 1 representing the highest level of information quality available and tier 6 representing the lowest level of information quality available.

The SSC adopted the final 2012 and 2013 OFLs and ABCs recommended by the Plan Team for all groundfish species, with the exception of the ABCs for “other rockfish” in the Central and Western GOA. The Plan Team's recommendation was that in 2012 and 2013 the 44 mt ABC for “other rockfish” in the Western GOA be combined with the 606 mt ABC for “other rockfish” in the Central GOA for a combined Central and Western GOA ABC of 650 mt. This recommendation was intended to spatially apportion “other rockfish” so that target fisheries are not restricted based on limited and relatively uncertain estimates of recent survey spatial distributions of “other rockfish.” The SSC however, decided to retain the area apportionments of ABC for “other rockfish” between the Central and Western GOA. The apportionment of 44 mt to the Western GOA ABC was based on the continued low abundance of harlequin rockfish in the 2011 NMFS bottom trawl survey. The SSC noted that “other rockfish” are on bycatch status all year, are taken as incidental catch in other directed fisheries, and are discarded at a high rate. Therefore, the SSC determined that regulatory discards would not decrease by combining the Western and Central regulatory area ABCs and did not recommend a change to the previously approved method for apportioning the ABC.

The Council adopted the SSC's OFL and ABC recommendations and the AP's TAC recommendations. The final TAC recommendations were based on the ABCs as adjusted for other biological and socioeconomic considerations, including maintaining the sum of all TACs within the required OY range of 116,000 to 800,000 mt.

The Council recommended TACs for 2012 and 2013 that are equal to ABCs for pollock, sablefish, deep-water flatfish, rex sole, Pacific ocean perch, northern rockfish, shortraker rockfish, pelagic shelf rockfish, rougheye rockfish, demersal shelf rockfish, thornyhead rockfish, “other rockfish” in the Central and Western GOA, big skates, longnose skate, other skates, squids, sharks, octopuses, and sculpins. The Council recommended TACs for 2012 and 2013 that are less than the ABCs for Pacific cod, shallow-water flatfish, arrowtooth flounder, flathead sole, “other rockfish” in the Eastern GOA, and Atka mackerel. The Pacific cod TACs are set to accommodate the State of Alaska's (State's) guideline harvest levels (GHLs) for Pacific cod so that the ABC is not exceeded. The shallow-water flatfish, arrowtooth flounder, and flathead sole TACs are set to allow for increased harvest opportunities for these targets while conserving the halibut PSC limit for use in other, more fully utilized, fisheries. The “other rockfish” TAC in the Eastern GOA is set to reduce the amount of discards in the Southeast Outside (SEO) District. The Atka mackerel TAC is set to accommodate incidental catch amounts in other fisheries.

The final 2012 and 2013 harvest specifications approved by the Secretary of Commerce (Secretary) are unchanged from those recommended by the Council and are consistent with the preferred harvest strategy alternative in the EIS (see ADDRESSES). NMFS finds that the Council's recommended OFLs, ABCs, and TACs are consistent with the biological condition of the groundfish stocks as described in the final 2011 SAFE report. NMFS also finds that the Council's recommendations for OFLs, ABCs, and TACs are consistent with the biological condition of groundfish stocks as adjusted for other biological and socioeconomic considerations, including maintaining the total TAC within the OY range. NMFS reviewed the Council's recommended TAC specifications and apportionments, and approves these harvest specifications under 50 CFR 679.20(c)(3)(ii). The apportionment of TAC amounts among gear types and sectors, processing sectors, and seasons is discussed below.

Tables 1 and 2 list the final 2012 and 2013 OFLs, ABCs, TACs, and area apportionments of groundfish in the GOA. The sums of the 2012 and 2013 ABCs are 606,048 mt and 612,506 mt, respectively, which are higher in 2012 and 2013 than the 2011 ABC sum of 590,121 mt (76 FR 11111, March 1, 2011).

Specification and Apportionment of TAC Amounts

The ABC for the pollock stock in the combined Western, Central, and West Yakutat Regulatory Areas (W/C/WYK) has been adjusted to reflect the GHL established by the State for the Prince William Sound (PWS) pollock fishery. Based upon genetic studies, fisheries scientists believe that the pollock in PWS is not a separate stock from the combined W/C/WYK population. Accordingly, the Council recommended decreasing the W/C/WYK pollock ABC to account for the State's PWS GHL. For 2012 and 2013, the PWS GHL for pollock is 2,770 mt, an increase from 1,650 mt in 2011.

The apportionment of annual pollock TAC among the Western and Central Regulatory Areas of the GOA reflects the seasonal biomass distribution and is discussed in greater detail below. The annual pollock TAC in the Western and Central Regulatory Areas of the GOA is apportioned among Statistical Areas 610, 620, and 630, as well as equally among each of the following four seasons: the A season (January 20 through March 10), the B season (March 10 through May 31), the C season (August 25 through October 1), and the D season (October 1 through November 1) (§ 679.23(d)(2)(i) through (iv), and § 679.20(a)(5)(iv)(A) through (B)). Tables 3 and 4 list the final 2012 and 2013 distribution of pollock in the Central and Western Regulatory Areas of the GOA, and area and seasonal allowances of annual TAC.

The AP, SSC, and Council recommended apportionment of the ABC for Pacific cod in the GOA among regulatory areas based on the three most recent NMFS summer trawl surveys. The 2012 and 2013 Pacific cod TACs are affected by the State's fishery for Pacific cod in State waters in the Central and Western Regulatory Areas, as well as in PWS. The Plan Team, SSC, AP, and Council recommended that the sum of all State and Federal water Pacific cod removals from the GOA not exceed ABC recommendations. Accordingly, the Council reduced the 2012 and 2013 Pacific cod TACs in the Eastern, Central, and Western Regulatory Areas to account for State GHLs. Therefore, the 2012 Pacific cod TACs are less than the ABCs by the following amounts: (1) Eastern GOA, 657 mt; (2) Central GOA, 14,235 mt; and (3) Western GOA, 7,008 mt. The 2013 Pacific cod TACs are less than the ABCs by the following amounts: (1) Eastern GOA, 684 mt; (2) Central GOA, 14,788 mt; and (3) Western GOA, 7,280 mt. These amounts reflect the sum of the State's 2012 and 2013 GHLs in these areas, which are 25 percent of the Eastern, Central, and Western GOA ABCs, respectively.

NMFS establishes seasonal apportionments of the annual Pacific cod TAC in the Western and Central Regulatory Areas. Sixty percent of the annual TAC is apportioned to the A season for hook-and-line, pot, and jig gear from January 1 through June 10, and for trawl gear from January 20 through June 10. Forty percent of the annual TAC is apportioned to the B season for hook-and-line, pot, and jig gear from September 1 through December 31, and for trawl gear from September 1 through November 1 (§§ 679.23(d)(3) and 679.20(a)(12)).

NMFS published a final rule to implement Amendment 83 to the FMP on December 1, 2011 (76 FR 74670), effective January 1, 2012. Amendment 83 allocates the Western and Central GOA Pacific cod TACs among various gear and operational sectors, and eliminates inshore and offshore allocations in these two regulatory areas. Sector allocations limit the amount of Western and Central GOA Pacific cod that each sector is authorized to harvest. Amendment 83 did not change the existing annual Pacific cod TAC allocation between the inshore and offshore processing components in the Eastern GOA. The Pacific cod sector apportionments are discussed in detail in a subsequent section of this preamble.

For sablefish, the SSC and Council recommended that the method of apportioning the sablefish ABC among management areas in 2012 and 2013 include commercial fishery and survey data. NMFS stock assessment scientists believe the use of unbiased commercial fishery data reflecting catch-per-unit-effort provides rational input for stock distribution assessments. NMFS evaluates annually the use of commercial fishery data to ensure unbiased information is included in stock distribution models. The Council's recommendation for sablefish area apportionments also takes into account the prohibition on the use of trawl gear in the SEO District of the Eastern Regulatory Area and makes available five percent of the combined Eastern Regulatory Area ABCs to trawl gear for use as incidental catch in other groundfish fisheries in the WYK District (§ 679.20(a)(4)(i)). Tables 7 and 8 list the final 2012 and 2013 allocations of sablefish TAC to hook-and-line and trawl gear in the GOA.

At the October 2011 Council meeting the SCC, AP, and Council recommended— and NMFS—proposed the move of widow and yellowtail rockfish from the pelagic shelf rockfish (PSR) species group to the “other rockfish” species group in the GOA. The preamble to the proposed 2012 and 2013 groundfish harvest specifications for the GOA (76 FR 79620, December 22, 2011) discusses the rationale for the action. These final 2012 and 2013 groundfish harvest specifications for the GOA make this recommendation effective. Final 2012 and 2013 amounts for the PSR and “other rockfish” species groups are listed in Tables 1 and 2. NMFS intends to prepare an FMP and regulatory amendment to remove the description of the PSR species group and fishery, add a description of the dusky rockfish fishery, and revise the description of the “other rockfish” fishery in the FMP and in associated regulations. The management measures associated with PSR would remain the same for dusky rockfish. All references to PSR in this rule refer to dusky rockfish.

Central GOA Rockfish Program

The Central GOA Rockfish Pilot Program expired December 31, 2011. For that reason, NMFS did not include 2012 allocations to the Rockfish Pilot Program in the final 2011 and 2012 harvest specifications for groundfish (76 FR 11111, March 1, 2011). A final rule to implement Amendment 88 to the GOA FMP, the Central GOA Rockfish Program (Rockfish Program), was published on December 27, 2011 (76 FR 81248), and is effective December 27, 2011, through December 31, 2021. The Rockfish Program allocates exclusive harvest privileges to a select group of License Limitation Program (LLP) license holders who used trawl gear to target Pacific ocean perch, pelagic shelf rockfish, and northern rockfish during specific qualifying years. This final rule includes allocations and apportionments of Rockfish Program species, as discussed in the proposed 2012 and 2013 harvest specifications (76 FR 79620, December 22, 2011).

Other Actions Affecting Prohibited Species Catch (PSC) in the GOA

Amendment 93 to Limit Bycatch of Chinook Salmon in the Western and Central GOA Pollock Fisheries

NMFS has submitted Amendment 93 to the FMP for review by the Secretary. NMFS published a proposed rule to implement Amendment 93 on December 14, 2011 (76 FR 77757), with comments on the proposed rule invited through January 30, 2012. If approved, Amendment 93 would establish an annual PSC limit of 25,000 Chinook salmon for the pollock fisheries in the Central and Western GOA, increase observer coverage requirements for vessels under 60 feet length overall until superseded by pending changes to the North Pacific Groundfish Observer Program, and require full retention of all salmon taken in the Central and Western GOA pollock fisheries until they can be counted and sampled. The annual 25,000 Chinook salmon PSC limit would be apportioned between the Western GOA (6,684 fish) and the Central GOA (18,316 fish). If Amendment 93 is approved and implemented in 2012 prior to the start of the pollock C season on August 25, 2012, NMFS would establish a Chinook salmon PSC limit in the C and D pollock seasons of 5,598 fish in the Western GOA and 8,929 fish in the Central GOA in 2012. If the annual Chinook salmon PSC limits are reached in either reporting area, directed fishing for pollock in the applicable reporting area would be closed for the remainder of the fishing year.

Halibut Prohibited Species Catch Limits Revisions

At its October 2011 meeting, the Council decided to pursue possible revisions to the GOA halibut PSC limits through an FMP amendment and an associated regulatory amendment. The alternatives being analyzed include no change, and reductions of 5, 10, or 15 percent of the current halibut PSC limits apportioned between trawl gear and hook-and-line gear. Apportionment of trawl PSC limits between the deep-water and shallow-water complexes, limits for non-exempt American Fisheries Act (AFA) CVs (CVs) using trawl gear, Rockfish Program halibut PSC limits for the catcher/processor (C/P) and CV sectors, and halibut PSC limits for Amendment 80 Program vessels could be affected. The Council intends to schedule initial review and final action for the proposed amendment during 2012 for implementation, pending approval by the Secretary, in 2013.

Changes From the Proposed 2012 and 2013 Harvest Specifications in the GOA

In October 2011, the Council's recommendations for the proposed 2012 and 2013 harvest specifications (76 FR 79620, December 22, 2011) were based largely upon information contained in the final 2010 SAFE report for the GOA groundfish fisheries, dated November 2010 (see ADDRESSES). The Council proposed that the final OFLs, ABCs, and TACs established for the 2012 groundfish fisheries (76 FR 11111, March 1, 2011) be used for the proposed 2012 and 2013 harvest specifications, pending completion and review of the 2011 SAFE report at its December 2011 meeting.

As described previously, the SSC adopted the final 2012 and 2013 OFLs and ABCs recommended by the Plan Team, with the exception of the combined ABC for “other rockfish” in the Central and Western GOA. The Council adopted the SSC's OFL and ABC recommendations and the AP's TAC recommendations for 2012 and 2013. The final 2012 ABCs are higher than the 2012 ABCs published in the proposed 2012 and 2013 harvest specifications (76 FR 79620, December 22, 2011) for Pacific cod, sablefish, rex sole, arrowtooth flounder, Pacific ocean perch, northern rockfish, shortraker rockfish, “other rockfish,” pelagic shelf rockfish, big skate, octopuses, and sculpins. The final 2012 ABCs are lower than the proposed 2012 ABCs for pollock, shallow-water flatfish, deep-water flatfish, flathead sole, rougheye rockfish, demersal shelf rockfish, thornyhead rockfish, longnose skate, “other skates,” and sharks. The final 2013 ABCs are higher than the proposed 2013 ABCs for pollock, Pacific cod, sablefish, rex sole, arrowtooth flounder, Pacific ocean perch, northern rockfish, shortraker rockfish, “other rockfish,” pelagic shelf rockfish, big skate, octopuses, and sculpins. The final 2013 ABCs are lower than the proposed 2013 ABCs for shallow-water flatfish, deep-water flatfish, flathead sole, rougheye rockfish, demersal shelf rockfish, thornyhead rockfish, longnose skate, “other skates,” and sharks. For the remaining target species, Atka mackerel and squids, the Council recommended, and the Secretary approved, final 2012 and 2013 ABCs that are the same as the proposed 2012 and 2013 ABCs.

Additional information explaining the changes between the proposed and final ABCs is included in the final 2011 SAFE report, which was not available when the Council made its proposed ABC and TAC recommendations in October 2011. At that time, the most recent stock assessment information was contained in the final 2010 SAFE report. The final 2011 SAFE report contains the best and most recent scientific information on the condition of the groundfish stocks, as previously discussed in this preamble, and is available for review (see ADDRESSES). The Council considered the final 2011 SAFE report in December 2011 when it made recommendations for the final 2012 and 2013 harvest specifications. The Council's final 2012 and 2013 TAC recommendations increase fishing opportunities for species for which the Council had sufficient information to raise TACs. Conversely, the Council reduced TACs to limit directed fishing for some species. In the GOA, the total final 2012 TAC amount is 438,159 mt, a decrease of 25 percent from the total proposed 2012 TAC amount of 584,440 mt. The total final 2013 TAC amount is 447,752 mt, a decrease of 23 percent from the total proposed 2013 TAC amount of 584,440 mt.

Based on changes to the assessment method used by the stock assessment scientists, the greatest TAC increases are for Pacific cod and northern rockfish. Based on changes in the estimates of overall biomass, the greatest TAC increases were for sablefish, shortraker rockfish, pelagic shelf rockfish, big skates, and octopuses. Based upon Council recommended changes in setting the TACs at amounts below ABCs the greatest decreases in TACs were for shallow-water flatfish, arrowtooth flounder, flathead sole, and “other rockfish.” The Council believed, and NMFS concurs, that setting TACs for these species equal to ABCs would not reflect anticipated harvest levels accurately, as the Council and NMFS expect halibut PSC limits to constrain these fisheries in both 2012 and 2013. However, the final TACs for these species are increased significantly from the final 2011 amounts to provide for greater harvest opportunities.

Based upon changes in the estimates of biomass by stock assessment scientists, the greatest decreases in TACs are for deep-water flatfish, thornyhead rockfish, and longnose skates. For all other species and species groups, changes from the proposed to the final TACs are within plus or minus five percent of the proposed TACs. These TAC changes corresponded to associated changes in the ABCs and TACs, as recommended by the SSC, AP, and Council.

Detailed information providing the basis for the changes described above is contained in the final 2011 SAFE report. The final TACs are based on the best scientific information available. These TACs are specified in compliance with the harvest strategy described in both the proposed and final rules for the 2012 and 2013 harvest specifications. The changes in TACs between the proposed and this final rule are compared in the following table.

Comparison of Proposed and Final 2012 and 2013 GOA Total Allowable Catch Limits
[Values are rounded to the nearest metric ton and percentage]
Species | 2012 and 2013 proposed TAC | 2012 Final TAC | Difference between 2012 proposed and final | Percentage difference | 2013 Final TAC | Difference between 2013 proposed and final | Percentage difference | Principle reason for difference
Pollock | 121,649 | 116,444 | −5,205 | −4 | 125,334 | 3,685 | +3 | Biomass.¹
Pacific cod | 58,650 | 65,700 | 7,050 | +12 | 68,250 | 9,600 | +16 | Model.²
Sablefish | 10,345 | 12,960 | 2,615 | +25 | 12,794 | 2,449 | +24 | Biomass.
Shallow-water flatfish | 56,242 | 37,029 | −19,213 | −34 | 36,550 | −19,692 | −35 | TAC adjustment.³
Deep-water flatfish | 6,486 | 5,126 | −1,360 | −21 | 5,126 | −1,360 | −21 | Biomass.
Rex sole | 9,396 | 9,612 | 216 | +2 | 9,432 | 36 | 0 | Biomass.
Arrowtooth flounder | 211,027 | 103,300 | −107,727 | −51 | 103,300 | −107,727 | −51 | TAC adjustment.
Flathead sole | 50,591 | 30,319 | −20,272 | −40 | 30,408 | −20,183 | −40 | TAC adjustment.
Pacific ocean perch | 16,187 | 16,918 | 731 | +5 | 16,500 | 313 | +2 | Biomass.
Northern rockfish | 4,614 | 5,507 | 893 | +19 | 5,153 | 539 | +12 | Model.
Shortraker rockfish | 914 | 1,081 | 167 | +18 | 1,081 | 167 | +18 | Biomass.
Other rockfish | 3,842 | 1,080 | −2,762 | −72 | 1,080 | −2,762 | −72 | TAC adjustment.
Pelagic shelf rockfish | 4,347 | 5,118 | 771 | +18 | 4,762 | 415 | +10 | Biomass.
Rougheye rockfish | 1,312 | 1,223 | −89 | −7 | 1,240 | −72 | −5 | Biomass.
Demersal shelf rockfish | 300 | 293 | −7 | −2 | 293 | −7 | −2 | Biomass.
Thornyhead rockfish | 1,770 | 1,665 | −105 | −6 | 1,665 | −105 | −6 | Biomass.
Atka mackerel | 4,700 | 2,000 | −2,700 | −57 | 2,000 | −2,700 | −57 | TAC adjustment.
Big skate | 3,328 | 3,767 | 439 | +13 | 3,767 | 439 | +13 | Biomass.
Longnose skates | 2,852 | 2,625 | −227 | −8 | 2,625 | −227 | −8 | Biomass.
Other skates | 2,093 | 2,030 | −63 | −3 | 2,030 | −63 | −3 | Biomass.
Squids | 1,148 | 1,148 | 0 | 0 | 1,148 | 0 | 0 | n/a.
Sharks | 6,197 | 6,028 | −169 | −3 | 6,028 | −169 | −3 | Biomass.
Octopuses | 954 | 1,455 | 501 | +53 | 1,455 | 501 | +53 | Biomass.
Sculpins | 5,496 | 5,731 | 235 | +4 | 5,731 | 235 | +4 | Biomass.
Total | 584,440 | 438,159 | −146,281 | −25 | 447,752 | −136,688 | −23 |
¹ Biomass—Change in estimate of biomass.
² Model—Change in assessment methodology.
³ TAC adjustment—Change in TAC to less than the ABC amount.

The final 2012 and 2013 TAC recommendations for the GOA are within the OY range established for the GOA and do not exceed the ABC for any species or species group. Tables 1 and 2 list final the OFL, ABC, and TAC amounts for GOA groundfish for 2012 and 2013, respectively.

Table 1—Final 2012 ABCs, TACs, and OFLs of Groundfish for the Western/Central/West Yakutat, Western, Central, Eastern Regulatory Areas, and in the West Yakutat, Southeast Outside, and Gulfwide Districts of the Gulf of Alaska
[Values are rounded to the nearest metric ton]
Species | Area ¹ | OFL | ABC | TAC
Pollock ² | Shumagin (610) | n/a | 30,270 | 30,270
| Chirikof (620) | n/a | 45,808 | 45,808
| Kodiak (630) | n/a | 26,348 | 26,348
| WYK (640) | n/a | 3,244 | 3,244
| W/C/WYK (subtotal) | 143,716 | 105,670 | 105,670
| SEO (650) | 14,366 | 10,774 | 10,774
| Total | 158,082 | 116,444 | 116,444
Pacific cod ³ | W | n/a | 28,032 | 21,024
| C | n/a | 56,940 | 42,705
| E | n/a | 2,628 | 1,971
| Total | 104,000 | 87,600 | 65,700
Sablefish ⁴ | W | n/a | 1,780 | 1,780
| C | n/a | 5,760 | 5,760
| WYK | n/a | 2,247 | 2,247
| SEO | n/a | 3,173 | 3,173
| E (WYK and SEO) (subtotal) | n/a | 5,420 | 5,420
| Total | 15,330 | 12,960 | 12,960
Shallow-water flatfish ⁶ | W | n/a | 21,994 | 13,250
| C | n/a | 22,910 | 18,000
| WYK | n/a | 4,307 | 4,307
| SEO | n/a | 1,472 | 1,472
| Total | 61,681 | 50,683 | 37,029
Deep-water flatfish ⁵ | W | n/a | 176 | 176
| C | n/a | 2,308 | 2,308
| WYK | n/a | 1,581 | 1,581
| SEO | n/a | 1,061 | 1,061
| Total | 6,834 | 5,126 | 5,126
Rex sole | W | n/a | 1,307 | 1,307
| C | n/a | 6,412 | 6,412
| WYK | n/a | 836 | 836
| SEO | n/a | 1,057 | 1,057
| Total | 12,561 | 9,612 | 9,612
Arrowtooth flounder | W | n/a | 27,495 | 14,500
| C | n/a | 143,162 | 75,000
| WYK | n/a | 21,159 | 6,900
| SEO | n/a | 21,066 | 6,900
| Total | 250,100 | 212,882 | 103,300
Flathead sole | W | n/a | 15,300 | 8,650
| C | n/a | 25,838 | 15,400
| WYK | n/a | 4,558 | 4,558
| SEO | n/a | 1,711 | 1,711
| Total | 59,380 | 47,407 | 30,319
Pacific ocean perch ⁷ | W | 2,423 | 2,102 | 2,102
| C | 12,980 | 11,263 | 11,263
| WYK | n/a | 1,692 | 1,692
| SEO | n/a | 1,861 | 1,861
| E (WYK and SEO) (subtotal) | 4,095 | n/a | n/a
| Total | 19,498 | 16,918 | 16,918
Northern rockfish 8 9 | W | n/a | 2,156 | 2,156
| C | n/a | 3,351 | 3,351
| E | n/a | 0 | 0
| Total | 6,574 | 5,507 | 5,507
Shortraker rockfish ¹¹ | W | n/a | 104 | 104
| C | n/a | 452 | 452
| E | n/a | 525 | 525
| Total | 1,441 | 1,081 | 1,081
Other rockfish 9 12 | W | n/a | 44 | 44
| C | n/a | 606 | 606
| WYK | n/a | 230 | 230
| SEO | n/a | 3,165 | 200
| Total | 5,305 | 4,045 | 1,080
Pelagic shelf rockfish ¹³ | W | n/a | 409 | 409
| C | n/a | 3,849 | 3,849
| WYK | n/a | 542 | 542
| SEO | n/a | 318 | 318
| Total | 6,257 | 5,118 | 5,118
Rougheye and Blackspotted rockfish ¹⁰ | W | n/a | 80 | 80
| C | n/a | 850 | 850
| E | n/a | 293 | 293
| Total | 1,472 | 1,223 | 1,223
Demersal shelf rockfish ¹⁴ | SEO | 467 | 293 | 293
Thornyhead rockfish | W | n/a | 150 | 150
| C | n/a | 766 | 766
| E | n/a | 749 | 749
| Total | 2,220 | 1,665 | 1,665
Atka mackerel | GW | 6,200 | 4,700 | 2,000
Big skate ¹⁵ | W | n/a | 469 | 469
| C | n/a | 1,793 | 1,793
| E | n/a | 1,505 | 1,505
| Total | 5,023 | 3,767 | 3,767
Longnose skate ¹⁶ | W | n/a | 70 | 70
| C | n/a | 1,879 | 1,879
| E | n/a | 676 | 676
| Total | 3,500 | 2,625 | 2,625
Other skates ¹⁷ | GW | 2,706 | 2,030 | 2,030
Squids | GW | 1,530 | 1,148 | 1,148
Sharks | GW | 8,037 | 6,028 | 6,028
Octopus | GW | 1,941 | 1,455 | 1,455
Sculpins | GW | 7,641 | 5,731 | 5,731
Total |  | 747,780 | 606,048 | 438,159
¹ Regulatory areas and districts are defined at § 679.2. (W = Western Gulf of Alaska; C = Central Gulf of Alaska; E = Eastern Gulf of Alaska; WYK = West Yakutat District; SEO = Southeast Outside District; GW = Gulf-wide).
² Pollock is apportioned in the Western/Central Regulatory Areas among three statistical areas. During the A season, the apportionment is based on an adjusted estimate of the relative distribution of pollock biomass of approximately 23 percent, 55 percent, and 22 percent in Statistical Areas 610, 620, and 630, respectively. During the B season, the apportionment is based on the relative distribution of pollock biomass at 23 percent, 67 percent, and 10 percent in Statistical Areas 610, 620, and 630, respectively. During the C and D seasons, the apportionment is based on the relative distribution of pollock biomass at 37 percent, 28 percent, and 35 percent in Statistical Areas 610, 620, and 630, respectively. Table 3 lists the final 2012 seasonal apportionments. In the West Yakutat and Southeast Outside Districts of the Eastern Regulatory Area, pollock is not divided into seasonal allowances.
³ The annual Pacific cod TAC is apportioned 60 percent to the A season and 40 percent to the B season in the Western and Central Regulatory Areas of the GOA. Pacific cod in the Eastern Regulatory Area is allocated 90 percent for processing by the inshore component and 10 percent for processing by the offshore component. Table 5 lists the final 2012 Pacific cod seasonal apportionments.
⁴ Sablefish is allocated to trawl and hook-and-line gear in 2012. Table 7 lists the final 2012 allocations of sablefish TACs.
⁵ “Deep-water flatfish” means Dover sole, Greenland turbot, Kamchatka flounder, and deepsea sole.
⁶ “Shallow-water flatfish” means flatfish not including “deep-water flatfish,” flathead sole, rex sole, or arrowtooth flounder.
⁷ “Pacific ocean perch” means Sebastes alutus.
⁸ “Northern rockfish” means Sebastes polyspinous. For management purposes the 2 mt apportionment of ABC to the WYK District of the Eastern Gulf of Alaska has been included in the slope rockfish species group.
⁹ “Slope rockfish” means Sebastes aurora (aurora), S. melanostomus (blackgill), S. paucispinis (bocaccio), S. goodei (chilipepper), S. crameri (darkblotch), S. elongatus (greenstriped), S. variegatus (harlequin), S. wilsoni (pygmy), S. babcocki (redbanded), S. proriger (redstripe), S. zacentrus (sharpchin), S. jordani (shortbelly), S. brevispinis (silvergrey), S. diploproa (splitnose), S. saxicola (stripetail), S. miniatus (vermilion), S. reedi (yellowmouth), S. entomelas (widow), and S. flavidus (yellowtail). In the Eastern GOA only, slope rockfish also includes northern rockfish, S. polyspinous.
¹⁰ “Rougheye rockfish” means Sebastes aleutianus (rougheye) and Sebastes melanostictus (blackspotted).
¹¹ “Shortraker rockfish” means Sebastes borealis.
¹² “Other rockfish” in the Western and Central Regulatory Areas and in the West Yakutat District means slope rockfish and demersal shelf rockfish. The “other rockfish” species group in the SEO District means slope rockfish.
¹³ “Pelagic shelf rockfish” means Sebastes variabilis (dusky).
¹⁴ “Demersal shelf rockfish” means Sebastes pinniger (canary), S. nebulosus (china), S. caurinus (copper), S. maliger (quillback), S. helvomaculatus (rosethorn), S. nigrocinctus (tiger), and S. ruberrimus (yelloweye).
¹⁵ “Big skate” means Raja binoculata.
¹⁶ “Longnose skate” means Raja rhina.
¹⁷ “Other skates” means Bathyraja spp.

Table 2—Final 2013 ABCs, TACs, and OFLs of Groundfish for the Western/Central/West Yakutat, Western, Central, Eastern Regulatory Areas, and in the West Yakutat, Southeast Outside, and Gulfwide Districts of the Gulf of Alaska
[Values are rounded to the nearest metric ton]
Species | Area¹ | OFL | ABC | TAC
Pollock ² | Shumagin (610) | n/a | 32,816 | 32,816
| Chirikof (620) | n/a | 49,662 | 49,662
| Kodiak (630) | n/a | 28,565 | 28,565
| WYK (640) | n/a | 3,517 | 3,517
| W/C/WYK (subtotal) | 155,402 | 114,560 | 114,560
| SEO (650) | 14,366 | 10,774 | 10,774
| Total | 169,768 | 125,334 | 125,334
Pacific cod ³ | W | n/a | 29,120 | 21,840
| C | n/a | 59,150 | 44,363
| E | n/a | 2,730 | 2,047
| Total | 108,000 | 91,000 | 68,250
Sablefish ⁴ | W | n/a | 1,757 | 1,757
| C | n/a | 5,686 | 5,686
| WYK | n/a | 2,219 | 2,219
| SEO | n/a | 3,132 | 3,132
| E (WYK and SEO) (subtotal) | n/a | 5,351 | 5,351
| Total | 15,129 | 12,794 | 12,794
Shallow-water flatfish ⁶ | W | n/a | 20,171 | 13,250
| C | n/a | 21,012 | 18,000
| WYK | n/a | 3,950 | 3,950
| SEO | n/a | 1,350 | 1,350
| Total | 56,781 | 46,483 | 36,550
Deep-water flatfish ⁵ | W | n/a | 176 | 176
| C | n/a | 2,308 | 2,308
| WYK | n/a | 1,581 | 1,581
| SEO | n/a | 1,061 | 1,061
| Total | 6,834 | 5,126 | 5,126
Rex sole | W | n/a | 1,283 | 1,283
| C | n/a | 6,291 | 6,291
| WYK | n/a | 821 | 821
| SEO | n/a | 1,037 | 1,037
| Total | 12,326 | 9,432 | 9,432
Arrowtooth flounder | W | n/a | 27,386 | 14,500
| C | n/a | 142,591 | 75,000
| WYK | n/a | 21,074 | 6,900
| SEO | n/a | 20,982 | 6,900
| Total | 249,066 | 212,033 | 103,300
Flathead sole | W | n/a | 15,518 | 8,650
| C | n/a | 26,205 | 15,400
| WYK | n/a | 4,623 | 4,623
| SEO | n/a | 1,735 | 1,735
| Total | 60,219 | 48,081 | 30,408
Pacific ocean perch ⁷ | W | 2,364 | 2,050 | 2,050
| C | 12,662 | 10,985 | 10,985
| WYK | n/a | 1,650 | 1,650
| SEO | n/a | 1,815 | 1,815
| E (WYK and SEO) (subtotal) | 3,995 | n/a | n/a
| Total | 19,021 | 16,500 | 16,500
Northern rockfish 8 9 | W | n/a | 2,017 | 2,017
| C | n/a | 3,136 | 3,136
| E | n/a | 0 | 0
| Total | 6,152 | 5,153 | 5,153
Shortraker rockfish ¹¹ | W | n/a | 104 | 104
| C | n/a | 452 | 452
| E | n/a | 525 | 525
| Total | 1,441 | 1,081 | 1,081
Other rockfish 9 12 | W | n/a | 44 | 44
| C | n/a | 606 | 606
| WYK | n/a | 230 | 230
| SEO | n/a | 3,165 | 200
| Total | 5,305 | 4,045 | 1,080
Pelagic shelf rockfish) ¹³ | W | n/a | 381 | 381
| C | n/a | 3,581 | 3,581
| WYK | n/a | 504 | 504
| SEO | n/a | 296 | 296
| Total | 5,822 | 4,762 | 4,762
Rougheye and Blackspotted rockfish ¹⁰ | W | n/a | 82 | 82
| C | n/a | 861 | 861
| E | n/a | 297 | 297
| Total | 1,492 | 1,240 | 1,240
Demersal shelf rockfish ¹⁴ | SEO | 467 | 293 | 293
Thornyhead rockfish | W | n/a | 150 | 150
| C | n/a | 766 | 766
| E | n/a | 749 | 749
| Total | 2,220 | 1,665 | 1,665
Atka mackerel | GW | 6,200 | 4,700 | 2,000
Big skate ¹⁵ | W | n/a | 469 | 469
| C | n/a | 1,793 | 1,793
| E | n/a | 1,505 | 1,505
| Total | 5,023 | 3,767 | 3,767
Longnose skate ¹⁶ | W | n/a | 70 | 70
| C | n/a | 1,879 | 1,879
| E | n/a | 676 | 676
| Total | 3,500 | 2,625 | 2,625
Other skates ¹⁷ | GW | 2,706 | 2,030 | 2,030
Squids | GW | 1,530 | 1,148 | 1,148
Sharks | GW | 8,037 | 6,028 | 6,028
Octopus | GW | 1,941 | 1,455 | 1,455
Sculpins | GW | 7,641 | 5,731 | 5,731
Total |  | 756,621 | 612,506 | 447,752
¹ Regulatory areas and districts are defined at § 679.2. (W = Western Gulf of Alaska; C = Central Gulf of Alaska; E = Eastern Gulf of Alaska; WYK = West Yakutat District; SEO = Southeast Outside District; GW = Gulf-wide).
² Pollock is apportioned in the Western/Central Regulatory Areas among three statistical areas. During the A season, the apportionment is based on an adjusted estimate of the relative distribution of pollock biomass of approximately 23 percent, 55 percent, and 22 percent in Statistical Areas 610, 620, and 630, respectively. During the B season, the apportionment is based on the relative distribution of pollock biomass at 23 percent, 67 percent, and 10 percent in Statistical Areas 610, 620, and 630, respectively. During the C and D seasons, the apportionment is based on the relative distribution of pollock biomass at 37 percent, 28 percent, and 35 percent in Statistical Areas 610, 620, and 630, respectively. Table 4 lists the final 2013 seasonal apportionments. In the West Yakutat and Southeast Outside Districts of the Eastern Regulatory Area, pollock is not divided into seasonal allowances.
³ The annual Pacific cod TAC is apportioned 60 percent to the A season and 40 percent to the B season in the Western and Central Regulatory Areas of the GOA. Pacific cod in the Eastern Regulatory Area is allocated 90 percent for processing by the inshore component and 10 percent for processing by the offshore component. Table 6 lists the final 2013 Pacific cod seasonal apportionments.
⁴ Sablefish is only allocated to trawl gear for 2013. Table 8 lists the final 2013 allocation of sablefish TACs to trawl gear.
⁵ “Deep-water flatfish” means Dover sole, Greenland turbot, Kamchatka flounder, and deep sea sole.
⁶ “Shallow-water flatfish” means flatfish not including “deep-water flatfish,” flathead sole, rex sole, or arrowtooth flounder.
⁷ “Pacific ocean perch” means Sebastes alutus.
⁸ “Northern rockfish” means Sebastes polyspinous. For management purposes the 2 mt apportionment of ABC to the WYK District of the Eastern Gulf of Alaska has been included in the slope rockfish species group.
⁹ “Slope rockfish” means Sebastes aurora (aurora), S. melanostomus (blackgill), S. paucispinis (bocaccio), S. goodei (chilipepper), S. crameri (darkblotch), S. elongatus (greenstriped), S. variegatus (harlequin), S. wilsoni (pygmy), S. babcocki (redbanded), S. proriger (redstripe), S. zacentrus (sharpchin), S. jordani (shortbelly), S. brevispinis (silvergrey), S. diploproa (splitnose), S. saxicola (stripetail), S. miniatus (vermilion), S. reedi (yellowmouth), S. entomelas (widow), and S. flavidus (yellowtail). In the Eastern GOA only, slope rockfish also includes northern rockfish, S. polyspinous.
¹⁰ “Rougheye rockfish” means Sebastes aleutianus (rougheye) and Sebastes melanostictus (blackspotted).
¹¹ “Shortraker rockfish” means Sebastes borealis.
¹² “Other rockfish” in the Western and Central Regulatory Areas and in the West Yakutat District means slope rockfish and demersal shelf rockfish. The “other rockfish” species group in the SEO District means slope rockfish.
¹³ “Pelagic shelf rockfish” means Sebastes variabilis (dusky).
¹⁴ “Demersal shelf rockfish” means Sebastes pinniger (canary), S. nebulosus (china), S. caurinus (copper), S. maliger (quillback), S. helvomaculatus (rosethorn), S. nigrocinctus (tiger), and S. ruberrimus (yelloweye).
¹⁵ “Big skate” means Raja binoculata.
¹⁶ “Longnose skate” means Raja rhina.
¹⁷ “Other skates” means Bathyraja spp.

Apportionment of Reserves

Section 679.20(b)(2) requires NMFS to set aside 20 percent of each TAC for pollock, Pacific cod, flatfish, squids, sharks, octopuses, and sculpins in reserves for possible apportionment at a later date during the fishing year. For 2012 and 2013, NMFS proposed reapportionment of all the reserves in the proposed 2012 and 2013 harvest specifications published in the Federal Register on December 22, 2011 (76 FR 79620). NMFS did not receive any public comments on the proposed reapportionments. For the final 2012 and 2013 harvest specifications, NMFS reapportioned, as proposed, all the reserves for pollock, Pacific cod, flatfish, squids, sharks, octopuses, and sculpins. The TAC amounts shown in Tables 1 and 2 reflect reapportionment of reserve amounts for these species and species groups.

Apportionments of Pollock TAC Among Seasons and Regulatory Areas, and Allocations for Processing by Inshore and Offshore Components

In the GOA, pollock is apportioned by season and area, and is further allocated for processing by inshore and offshore components. Pursuant to § 679.20(a)(5)(iv)(B), the annual pollock TAC specified for the Western and Central Regulatory Areas of the GOA is apportioned into four equal seasonal allowances of 25 percent. As established by § 679.23(d)(2)(i) through (iv), the A, B, C, and D season allowances are available from January 20 to March 10, March 10 to May 31, August 25 to October 1, and October 1 to November 1, respectively.

Pollock TACs in the Western and Central Regulatory Areas of the GOA are apportioned among Statistical Areas 610, 620, and 630, pursuant to § 679.20(a)(5)(iv)(A). In the A and B seasons, the apportionments are in proportion to the distribution of pollock biomass based on the four most recent NMFS winter surveys. In the C and D seasons, the apportionments are in proportion to the distribution of pollock biomass based on the four most recent NMFS summer surveys. However, for 2012 and 2013, the Council recommends, and NMFS approves, averaging the winter and summer distribution of pollock in the Central Regulatory Area for the A season and not the distribution based on the winter surveys. The average is intended to reflect the migration patterns and distribution of pollock, and the performance of the fishery, in that area during the A season for the 2012 and 2013 fishing years. During the A season, the apportionment is based on an adjusted estimate of the relative distribution of pollock biomass of approximately 23 percent, 55 percent, and 22 percent in Statistical Areas 610, 620, and 630, respectively. During the B season, the apportionment is based on the relative distribution of pollock biomass at 23 percent, 67 percent, and 10 percent in Statistical Areas 610, 620, and 630, respectively. During the C and D seasons, the apportionment is based on the relative distribution of pollock biomass at 37 percent, 28 percent, and 35 percent in Statistical Areas 610, 620, and 630, respectively.

Within any fishing year, the amount by which a seasonal allowance is underharvested or overharvested may be added to, or subtracted from, subsequent seasonal allowances in a manner to be determined by the Regional Administrator (§ 679.20(a)(5)(iv)(B)). The rollover amount is limited to 20 percent of the unharvested seasonal apportionment for the statistical area. Any unharvested pollock above the 20 percent limit could be further distributed to the other statistical areas, in proportion to the estimated biomass in the subsequent season in those statistical areas (§ 679.20(a)(5)(iv)(B)). The pollock TACs in the WYK and SEO District of 3,244 mt and 10,774 mt, respectively, in 2012, and 3,517 mt and 10,774 mt, respectively, in 2013, are not allocated by season.

Section 679.20(a)(6)(i) requires the allocation of 100 percent of the pollock TAC in all regulatory areas and all seasonal allowances to vessels catching pollock for processing by the inshore component after subtraction of amounts projected by the Regional Administrator to be caught by, or delivered to, the offshore component incidental to directed fishing for other groundfish species. Thus, the amount of pollock available for harvest by vessels harvesting pollock for processing by the offshore component is that amount that will be taken as incidental catch during directed fishing for groundfish species other than pollock, up to the maximum retainable amounts allowed by § 679.20(e) and (f). At this time, these incidental catch amounts of pollock are unknown and will be determined during the fishing year during the course of fishing activities by the offshore component.

Tables 3 and 4 list the final 2012 and 2013 seasonal biomass distribution of pollock in the Western and Central Regulatory Areas, area apportionments, and seasonal allowances. The amounts of pollock for processing by the inshore and offshore components are not shown.

Table 3—Final 2012 Distribution of Pollock in the Central and Western Regulatory Areas of the GOA; Seasonal Biomass Distribution, Area Apportionments; and Seasonal Allowances of Annual TAC
[Values are rounded to the nearest metric ton and percentages are rounded to the nearest 0.01]
Season¹ | Shumagin (Area 610) |  | Chirikof (Area 620) |  | Kodiak (Area 630) |  | Total ²
A (Jan 20-Mar 10) | 5,797 | (22.64%) | 14,023 | (54.76%) | 5,787 | (22.60%) | 25,607
B (Mar 10-May 31) | 5,797 | (22.64%) | 17,221 | (67.25%) | 2,589 | (10.11%) | 25,607
C (Aug 25-Oct 1) | 9,338 | (36.47%) | 7,282 | (28.44%) | 8,986 | (35.10%) | 25,606
D (Oct 1-Nov 1) | 9,338 | (36.47%) | 7,282 | (28.44%) | 8,986 | (35.10%) | 25,606
Annual Total | 32,070 |  | 45,808 |  | 26,348 |  | 102,426
¹ As established by § 679.23(d)(2)(i) through (iv), the A, B, C, and D season allowances are available from January 20 to March 10, March 10 to May 31, August 25 to October 1, and October 1 to November 1, respectively. The amounts of pollock for processing by the inshore and offshore components are not shown in this table.
² The WYK and SEO District pollock TACs are not allocated by season and are not included in the total pollock TACs shown in this table.

Table 4—Final 2013 Distribution of Pollock in the Central and Western Regulatory Areas of the GOA; Seasonal Biomass Distribution, Area Apportionments; and Seasonal Allowances of Annual TAC
[Values are rounded to the nearest metric ton and percentages are rounded to the nearest 0.01]
Season¹ | Shumagin (Area 610) |  | Chirikof (Area 620) |  | Kodiak (Area 630) |  | Total ²
A (Jan 20-Mar 10) | 6,285 | (22.64%) | 15,202 | (54.76%) | 6,274 | (22.60%) | 27,761
B (Mar 10-May 31) | 6,285 | (22.64%) | 18,668 | (67.25%) | 2,806 | (10.11%) | 27,760
C (Aug 25-Oct 1) | 10,123 | (36.47%) | 7,896 | (28.44%) | 9,743 | (35.10%) | 27,761
D (Oct 1-Nov 1) | 10,123 | (36.47%) | 7,896 | (28.44%) | 9,743 | (35.10%) | 27,761
Annual Total | 32,816 |  | 49,662 |  | 28,565 |  | 111,043
¹ As established by § 679.23(d)(2)(i) through (iv), the A, B, C, and D season allowances are available from January 20 to March 10, March 10 to May 31, August 25 to October 1, and October 1 to November 1, respectively. The amounts of pollock for processing by the inshore and offshore components are not shown in this table.
² The WYK and SEO District pollock TACs are not allocated by season and are not included in the total pollock TACs shown in this table.

Annual and Seasonal Apportionments of Pacific Cod TAC

NMFS published a final rule to implement Amendment 83 to the FMP on December 1, 2011 (76 FR 74670), effective January 1, 2012. Amendment 83 allocates the Western and Central GOA Pacific cod TACs among gear and operational sectors, based on each sector's catch history. Amendment 83 also limits access to the Federal Pacific cod TAC fisheries prosecuted in State waters, known as parallel fisheries, adjacent to the Western and Central GOA. Based on the restructuring of the GOA Pacific cod fisheries under Amendment 83, NMFS makes final allocations of the annual Pacific cod TAC seasonally between the inshore and offshore components in the Eastern GOA, among vessels using jig gear, CVs less than 50 feet (15.2 m) in length overall using hook-and-line gear, CVs equal to or greater than 50 feet (15.2 m) in length overall using hook-and-line gear, C/Ps using hook-and-line gear, CVs using trawl gear, C/Ps using trawl gear, and vessels using pot gear in the Central GOA, and among vessels using jig gear, CVs using hook-and-line gear, C/Ps using hook-and-line gear, CVs using trawl gear, C/Ps using trawl gear, and vessels using pot gear in the Western GOA.

NMFS may also apply any overage or underage of Pacific cod harvest by each sector from the A season to the B season. Under § 679.20(a)(12)(ii), any overage or underage of the Pacific cod allowance from the A season will be subtracted from, or added to, the subsequent B season allowance. In addition, any portion of the hook-and-line, trawl, pot, or jig sector allocations that are determined by NMFS as likely to go unharvested by a sector may be reapportioned to other sectors for harvest during the remainder of the fishery year.

NMFS calculated the final 2012 and 2013 Pacific cod TAC allocations as follows. First, the jig sector receives 1.5 percent of the annual Pacific cod TAC in the Western GOA and 1.0 percent of the annual Pacific cod TAC in the Central GOA, as required by § 679.20(c)(7). The jig sector annual allocation is further apportioned between the A (60 percent) and B (40 percent) seasons as required by § 679.20(a)(12)(i). Should the jig sector harvest 90 percent or more of its allocation in an area during a fishing year, then this allocation would increase by 1 percent in the subsequent fishing year, up to 6 percent of the annual TAC. NMFS allocates the remainder of the annual Pacific cod TAC based on gear type, operation type, and vessel length overall in the Western and Central GOA seasonally as required by § 679.20(a)(12)(A) and (B). Tables 5 and 6 list the seasonal apportionments and allocations of the final 2012 and 2013 Pacific cod TACs.

Table 5—Final 2012 Seasonal Apportionments and Allocation of Pacific Cod Total Allowable Catch Amounts in the GOA; Allocations for the Western GOA and Central GOA Sectors and the Eastern GOA Inshore and Offshore Processing Components
[Values are rounded to the nearest metric ton and percentages to the nearest 0.01. Seasonal allowances may not total precisely to annual allocation amount]
Regulatory area and sector | Annual allocation (mt) | A Season: Sector percentage of annual non-jig TAC | A Season: Seasonal allowances (mt) | B Season: Sector percentage of annual non-jig TAC | B Season: Seasonal allowances (mt)
Western GOA
Jig (1.5% of TAC) | 315 | N/A | 189 | N/A | 126
Hook-and-line CV | 290 | 0.70 | 145 | 0.70 | 145
Hook-and-line C/P | 4,100 | 10.90 | 2,257 | 8.90 | 1,843
Trawl CV | 7,952 | 27.70 | 5,736 | 10.70 | 2,216
Trawl C/P | 497 | 0.90 | 186 | 1.50 | 311
All Pot CV and Pot C/P | 7,869 | 19.80 | 4,100 | 18.20 | 3,769
Total | 21,024 | 60.00 | 12,614 | 40.00 | 8,410
Central GOA
Jig (1.0% of TAC) | 427 | N/A | 256 | N/A | 171
Hook-and-line <50 CV | 6,174 | 9.32 | 3,938 | 5.29 | 2,235
Hook-and-line ≥50 CV | 2,835 | 5.61 | 2,372 | 1.10 | 464
Hook-and-line C/P | 2,158 | 4.11 | 1,736 | 1.00 | 422
Trawl CV | 17,581 | 21.14 | 8,936 | 20.45 | 8,645
Trawl C/P | 1,775 | 2.00 | 847 | 2.19 | 928
All Pot CV and Pot C/P | 11,755 | 17.83 | 7,538 | 9.97 | 4,217
Total | 42,705 | 60.00 | 25,623 | 40.00 | 17,082
Eastern GOA |  | Inshore (90% of Annual TAC) |  | Offshore (10% of Annual TAC)
| 1,971 |  | 1,774 |  | 197

Table 6—Final 2013 Seasonal Apportionments and Allocation of Pacific Cod Total Allowable Catch Amounts in the GOA; Allocations for the Western GOA and Central GOA Sectors and the Eastern GOA Inshore and Offshore Processing Components
[Values are rounded to the nearest metric ton and percentages to the nearest 0.01. Seasonal allowances may not total precisely to annual allocation amount]
Regulatory area and sector | Annual allocation (mt) | A Season: Sector percentage of annual non-jig TAC | A Season: Seasonal allowances (mt) | B Season: Sector percentage of annual non-jig TAC | B Season: Seasonal allowances (mt)
Western GOA
Jig (1.5% of TAC) | 328 | N/A | 197 | N/A | 131
Hook-and-line CV | 301 | 0.70 | 151 | 0.70 | 151
Hook-and-line C/P | 4,259 | 10.90 | 2,345 | 8.90 | 1,915
Trawl CV | 8,261 | 27.70 | 5,959 | 10.70 | 2,302
Trawl C/P | 516 | 0.90 | 194 | 1.50 | 323
All Pot CV and Pot C/P | 8,175 | 19.80 | 4,259 | 18.20 | 3,915
Total | 21,840 | 60.00 | 13,104 | 40.00 | 8,736
Central GOA
Jig (1.0% of TAC) | 444 | N/A | 266 | N/A | 177
Hook-and-line <50 CV | 6,413 | 9.32 | 4,091 | 5.29 | 2,322
Hook-and-line ≥50 CV | 2,946 | 5.61 | 2,464 | 1.10 | 482
Hook-and-line C/P | 2,242 | 4.11 | 1,804 | 1.00 | 438
Trawl CV | 18,263 | 21.14 | 9,282 | 20.45 | 8,981
Trawl C/P | 1,844 | 2.00 | 880 | 2.19 | 964
All Pot CV and Pot C/P | 12,212 | 17.83 | 7,831 | 9.97 | 4,381
Total | 44,363 | 60.00 | 26,618 | 40.00 | 17,745
Eastern GOA |  | Inshore (90% of Annual TAC) |  | Offshore (10% of Annual TAC)
| 2,047 |  | 1,842 |  | 205

Allocations of the Sablefish TACs

Section 679.20(a)(4)(i) and (ii) require allocations of sablefish TACs for each of the regulatory areas and districts to hook-and-line and trawl gear. In the Western and Central Regulatory Areas, 80 percent of each TAC is allocated to hook-and-line gear, and 20 percent of each TAC is allocated to trawl gear. In the Eastern Regulatory Area, 95 percent of the TAC is allocated to hook-and-line gear, and 5 percent is allocated to trawl gear. The trawl gear allocation in the Eastern Regulatory Area may only be used to support incidental catch of sablefish in directed fisheries for other target species (§ 679.20(a)(4)(i)).

In recognition of the prohibition against trawling in the SEO District of the Eastern Regulatory Area, the Council recommended allocating 5 percent of the combined Eastern Regulatory Area sablefish TAC to trawl gear in the WYK District and making the remainder of the WYK sablefish TAC available to vessels using hook-and-line gear. NMFS concurs with the Council's recommendation, and, as a result, allocates 100 percent of the sablefish TAC in the SEO District to vessels using hook-and-line gear. This recommendation results in a 2012 allocation of 271 mt to trawl gear and 1,976 mt to hook-and-line gear in the WYK District, a 2012 allocation of 3,173 mt to hook-and-line gear in the SEO District, and a 2013 allocation of 268 mt to trawl gear in the WYK District. Table 7 lists the allocations of the 2012 sablefish TACs to hook-and-line and trawl gear. Table 8 lists the allocations of the 2013 sablefish TACs to trawl gear.

The Council recommended that the hook-and-line sablefish TAC be established annually to ensure that this Individual Fishery Quota (IFQ) fishery is conducted concurrent with the halibut IFQ fishery and is based on recent sablefish survey information. The Council also recommended that only a trawl sablefish TAC be established for two years so that retention of incidental catch of sablefish by trawl gear could commence in January in the second year of the groundfish harvest specifications. However, since there is an annual assessment for sablefish and the final harvest specifications are expected to be published before the IFQ season begins (typically, early March), the Council recommended that the hook-and-line sablefish TAC be set on an annual basis, rather than for two years, so that the best scientific information available could be considered in establishing the sablefish ABCs and TACs. Also, because sablefish is closed for directed fishing for trawl gear during the entire fishing year (except for vessels with Rockfish Program cooperative allocations) and fishing for groundfish is prohibited prior to January 20, it is not likely that the trawl allocation of sablefish established by the final 2011 and 2012 harvest specifications would be reached before the effective date of the final 2012 and 2013 harvest specifications.

Table 7—Final 2012 Sablefish TAC Specifications in the GOA and Allocations to Hook-and-Line and Trawl Gear
[Values are rounded to the nearest metric ton]
Area/district | TAC | Hook-and-line allocation | Trawl allocation
Western | 1,780 | 1,424 | 356
Central | 5,760 | 4,608 | 1,152
West Yakutat ¹ | 2,247 | 1,976 | 271
Southeast Outside | 3,173 | 3,173 | 0
Total | 12,960 | 11,181 | 1,779
¹ The trawl allocation is based on allocating five percent of the combined Eastern Regulatory Area (West Yakutat and Southeast Outside combined) sablefish TAC to trawl gear in the West Yakutat District.

Table 8—Final 2013 Sablefish TAC Specifications in the GOA and Allocation to Trawl Gear ¹
[Values are rounded to the nearest metric ton]
Area/district | TAC | Hook-and-line allocation | Trawl allocation
Western | 1,757 | n/a | 351
Central | 5,686 | n/a | 1,137
West Yakutat ² | 2,219 | n/a | 268
Southeast Outside | 3,132 | n/a | 0
Total | 12,794 | n/a | 1,756
¹ The Council recommended that harvest specifications for the hook-and-line gear sablefish Individual Fishing Quota fisheries be limited to one year.
² The trawl allocation is based on allocating five percent of the combined Eastern Regulatory Area (West Yakutat and Southeast Outside combined) sablefish TAC to trawl gear in the West Yakutat District.

Demersal Shelf Rockfish (DSR)

The recommended 2012 and 2013 DSR TAC is 293 mt. Management of DSR is delegated to the State. In 2006, the Alaska Board of Fish allocated future SEO District DSR TACs between the commercial fishery (84 percent) and the sport fishery (16 percent) after deductions were made for anticipated subsistence harvests (8 mt). This results in 2012 and 2013 allocations of 239 mt to the commercial fishery and 46 mt to the sport fishery. The State deducts estimates of incidental catch of DSR in the commercial halibut fishery and test fishery mortality from the DSR commercial fishery allocation. In 2011, this resulted in 89 mt being available for the directed commercial DSR fishery apportioned between four outer coast areas. Only one of these areas, the South Southeast Outside area, was open to directed commercial fishery with a GHL of 25 mt and a harvest of 22 mt. DSR harvest in the halibut fishery is linked to the annual halibut catch limits; therefore the State cannot estimate potential DSR incidental catch in that fishery until those quotas are established. Federally-permitted CVs using hook-and-line or jig gear fishing for groundfish and Pacific halibut in the SEO District of the GOA are required to retain all DSR (§ 679.20(j)). The State will announce the opening of directed fishing for DSR in 2012 in January following the International Pacific Halibut Commission's (IPHC) January 2012 annual meeting.

Apportionments to the Central GOA Rockfish Program

Amendment 88 to the GOA FMP establishes the Central GOA Rockfish Program (Rockfish Program). NMFS published a final rule to implement Amendment 88 on December 27, 2011 (76 FR 81248). These final 2012 and 2013 groundfish harvest specifications for the GOA includes the various fishery cooperative allocations and sideboard limitations established by the Central GOA Rockfish Program. Under the Rockfish Program, the primary rockfish species (Pacific ocean perch, northern rockfish, and pelagic shelf rockfish) are allocated to participants after deducting for incidental catch needs in other directed groundfish fisheries. Potential participants in the Rockfish Program include vessels in CV cooperatives, C/P cooperatives, and vessels in the entry level longline category.

The Rockfish Program assigns quota share and cooperative quota to participants for primary and secondary species, allows a participant holding an LLP license with rockfish quota share to form a rockfish cooperative with other persons, and allows holders of C/P LLP licenses to opt-out of the fishery. The Rockfish Program also has an entry level fishery for rockfish primary species for vessels using longline gear. Additionally, the Rockfish Program continues to establish sideboard limits to limit the ability of harvesters operating under the Rockfish Program from increasing their participation in other, non-Rockfish Program fisheries.

Additionally, the Rockfish Program allocates a portion of the halibut PSC limit from the third season deep-water species fishery allowance for the GOA trawl fisheries to Rockfish Program participants (§ 679.81(d)). This includes 117 mt to the CV sector and 74 mt to the C/P sector. It also would permanently retire 27 mt (values are rounded to the nearest metric ton) of the halibut PSC limit from being allocated to any fishery.

NMFS initially allocates 5 mt of Pacific ocean perch, 5 mt of northern rockfish, and 30 mt of PSR to the entry level longline fishery in 2012 and 2013. The remainder of the TACs for the primary rockfish species are allocated to the CV and C/P cooperatives. The allocation for the entry level longline fishery would increase incrementally each year if the sector harvests 90 percent or more of the allocation of a species. The incremental increase would continue each year until it reaches the cap set for the maximum percent of the entry level allocation for that species in accordance with Table 28e to part 679. Table 9 lists the initial 2012 and 2013 allocations for each rockfish primary species to the entry level longline fishery, the incremental increase for future years, and the cap for the entry level longline fishery.

Table 9—Initial 2012 and 2013 Allocations of Rockfish to the Entry Level Longline Fishery in the Central Gulf of Alaska
Rockfish primary species | 2012 and 2013 allocations | Incremental increase per season if ≥90% of allocation is harvested | Up to maximum % of TAC
Pacific ocean perch | 5 metric tons | 5 metric tons | 1
Northern rockfish | 5 metric tons | 5 metric tons | 2
Pelagic shelf rockfish | 30 metric tons | 20 metric tons | 5

The Rockfish Program allocates primary rockfish species among various components of the Rockfish Program. Tables 10 and 11 list the final 2012 and 2013 allocations of rockfish in the Central GOA to longline gear in the entry level rockfish fishery and other participants in the Rockfish Program, which include CV and C/P cooperatives. NMFS is also setting aside incidental catch amounts (ICAs) of 900 mt of Pacific ocean perch, 125 mt of northern rockfish, and 125 mt of pelagic shelf rockfish for other directed fisheries in the Central GOA. These amounts are based on recent average incidental catches in the Central GOA by other groundfish fisheries. Allocations between vessels belonging to CV or C/P cooperatives are not included in these final harvest specifications. Rockfish Program applications for CV cooperatives, C/P cooperatives, and C/Ps electing to opt-out of the program are not due to NMFS until March 1 of each calendar year. Therefore, NMFS cannot calculate the 2012 and 2013 allocations in conjunction with these final harvest specifications. NMFS will post these allocations on the Alaska Region Web site at (http://alaskafisheries.noaa.gov/sustainablefisheries/goarat/default.htm) when they become available in March.

Table 10—Final 2012 Allocations of Rockfish in the Central Gulf of Alaska to the Entry Level Longline Fishery and Other Participants in the Rockfish Program
[Values are rounded to the nearest metric ton]
Species | TAC | Incidental catch allowance | TAC minus ICA | Allocation to the entry level longline ¹ fishery | Allocation to other participants in the Rockfish Program ²
Pacific ocean perch | 11,263 | 900 | 10,363 | 5 | 10,358
Northern rockfish | 3,351 | 125 | 3,226 | 5 | 3,221
Pelagic shelf rockfish | 3,849 | 125 | 3,724 | 30 | 3,694
Total | 18,463 | 1,000 | 17,463 | 40 | 17,423
¹ Longline gear includes hook-and-line, jig, troll, and handline gear.
² Other participants in the Rockfish Program include vessels in CV and C/P cooperatives.

Table 11—Final 2013 Allocations of Rockfish in the Central Gulf of Alaska to the Entry Level Longline Fishery and Other Participants in the Rockfish Program
[Values are rounded to the nearest metric ton]
Species | TAC | Incidental catch allowance | TAC minus ICA | Allocation to the entry level longline ¹ fishery | Allocation to other participants in the Rockfish Program ²
Pacific ocean perch | 10,985 | 900 | 10,235 | 5 | 10,230
Northern rockfish | 3,136 | 125 | 3,011 | 5 | 3,006
Pelagic shelf rockfish | 3,581 | 125 | 3,456 | 30 | 3,426
Total | 17,702 | 1,000 | 16,702 | 40 | 16,662
¹ Longline gear includes hook-and-line, jig, troll, and handline gear.
² Other participants in the Rockfish Program include vessels in CV and C/P cooperatives.

Under Amendment 88, NMFS also allocates secondary species to cooperatives in the Rockfish Program (§ 679.81(c)). These species include sablefish from the trawl gear allocation, thornyhead rockfish, Pacific cod for the CV cooperatives, and rougheye and shortraker rockfish for the C/P cooperatives. Tables 12 and 13 list the final 2012 and 2013 apportionments of rockfish secondary species in the Central GOA to CV and C/P cooperatives.

Table 12—Final 2012 Apportionments of Rockfish Secondary Species in the Central GOA to Catcher Vessel and Catcher/Processor Cooperatives
[Values are rounded to the nearest metric ton]
Species | Annual central GOA TAC | Catcher vessel cooperatives: Percentage of TAC | Catcher vessel cooperatives: Apportionment (mt) | Catcher/Processor cooperatives: Percentage of TAC | Catcher/Processor cooperatives: Apportionment (mt)
Pacific cod | 42,705 | 3.81 | 1,627 | N/A | N/A
Sablefish | 5,760 | 6.78 | 391 | 3.51 | 202
Shortraker rockfish | 452 | N/A | N/A | 40.00 | 181
Rougheye rockfish | 850 | N/A | N/A | 58.87 | 500
Thornyhead rockfish | 766 | 7.84 | 60 | 26.50 | 203

Table 13—Final 2013 Apportionments of Rockfish Secondary Species in the Central GOA to Catcher Vessel and Catcher/Processor Cooperatives
[Values are rounded to the nearest metric ton]
Species | Annual central GOA TAC | Catcher vessel cooperatives: Percentage of TAC | Catcher vessel cooperatives: Apportionment (mt) | Catcher/processor cooperatives: Percentage of TAC | Catcher/processor cooperatives: Apportionment (mt)
Pacific cod | 44,363 | 3.81 | 1,690 | N/A | N/A
Sablefish | 5,686 | 6.78 | 386 | 3.51 | 200
Shortraker rockfish | 452 | N/A | N/A | 40.00 | 181
Rougheye rockfish | 861 | N/A | N/A | 58.87 | 507
Thornyhead rockfish | 766 | 7.84 | 60 | 26.50 | 203

Halibut PSC Limits

Section 679.21(d) establishes the annual halibut PSC limit apportionments to trawl and hook-and-line gear and authorizes the establishment of apportionments for pot gear. In December 2011, the Council recommended that NMFS maintain the 2012 halibut PSC limits of 2,000 mt for the trawl fisheries and 300 mt for the hook-and-line fisheries for the 2012 and 2013 groundfish fisheries. Ten mt of the hook-and-line limit is further allocated to the DSR fishery in the SEO District. The DSR fishery is defined at § 679.21(d)(4)(iii)(A). This fishery has been apportioned 10 mt in recognition of its small-scale harvests. Most vessels in the DSR fishery are less than 60 ft (18.3 m) length overall and are exempt from observer coverage. Therefore, observer data are not available to verify actual bycatch amounts. NMFS estimates low halibut bycatch in the DSR fishery because (1) the duration of the DSR fisheries and the gear soak times are short; (2) the DSR fishery occurs in the winter when less overlap occurs in the distribution of DSR and halibut; and (3) the directed commercial DSR fishery has a low DSR TAC. Of the 300 mt TAC for DSR in 2011, 89 mt was available for the commercial fishery, of which 22 mt were harvested.

The FMP authorizes the Council to exempt specific gear from the halibut PSC limits. NMFS, after consultation with the Council, exempts pot gear, jig gear, and the sablefish IFQ hook-and-line gear fishery from the non-trawl halibut limit for 2012 and 2013. The Council recommended, and NMFS approves, these exemptions because (1) the pot gear fisheries have low annual halibut bycatch mortality (averaging 22 mt annually from 2002 through 2011); (2) IFQ program regulations prohibit discard of halibut if any halibut IFQ permit holder on board a catcher vessel holds unused halibut IFQ (§ 679.7(f)(11)); (3) sablefish IFQ fishermen typically hold halibut IFQ permits and are therefore required to retain the halibut they catch while fishing sablefish IFQ; and (4) NMFS estimates negligible halibut mortality for the jig gear fisheries. NMFS estimates that halibut mortality is negligible in the jig gear fisheries given the small amount of groundfish harvested by jig gear (averaging 297 mt annually from 2003 through 2011), the selective nature of jig gear, and the high survival rates of halibut caught (and subsequently released) with jig gear.

Section 679.21(d)(5) authorizes NMFS to seasonally apportion the halibut PSC limits after consultation with the Council. The FMP and regulations require the Council and NMFS to consider the following information in seasonally apportioning halibut PSC limits: (1) Seasonal distribution of halibut, (2) seasonal distribution of target groundfish species relative to halibut distribution, (3) expected halibut bycatch needs on a seasonal basis relative to changes in halibut biomass and expected catch of target groundfish species, (4) expected bycatch rates on a seasonal basis, (5) expected changes in directed groundfish fishing seasons, (6) expected actual start of fishing effort, and (7) economic effects of establishing seasonal halibut allocations on segments of the target groundfish industry. The Council obtained the information it considered when setting the halibut PSC limits from the 2011 SAFE report, NMFS catch data, State of Alaska catch data, IPHC stock assessment and mortality data, and public testimony.

NMFS concurs in the Council's recommendations listed in Table 14, which shows the final 2012 and 2013 Pacific halibut PSC limits, allowances, and apportionments. Sections 679.21(d)(5)(iii) and (iv) specify that any underages or overages of a seasonal apportionment of a PSC limit will be deducted from or added to the next respective seasonal apportionment within the fishing year.

Table 14—Final 2012 and 2013 Pacific Halibut PSC Limits, Allowances, and Apportionments
[Values are in metric tons]
Trawl gear: Season | Trawl gear: Percent | Trawl gear: Amount | Hook-and-line gear ¹: Other than DSR: Season | Hook-and-line gear ¹: Other than DSR: Percent | Hook-and-line gear ¹: Other than DSR: Amount | Hook-and-line gear ¹: DSR: Season | Hook-and-line gear ¹: DSR: Amount
January 20-April 1 | 27.5 | 550 | January 1-June 10 | 86 | 250 | January 1-December 31 | 10
April 1-July 1 | 20 | 400 | June 10-September 1 | 2 | 5 |  |
July 1-September 1 | 30 | 600 | September 1-December 31 | 12 | 35 |  |
September 1-October 1 | 7.5 | 150 |  |  |  |  |
October 1-December 31 | 15 | 300 |  |  |  |  |
Total |  | 2,000 |  |  | 290 |  | 10
¹ The Pacific halibut PSC limit for hook-and-line gear is allocated to the demersal shelf rockfish (DSR) fishery and fisheries other than DSR. The hook-and-line sablefish fishery is exempt from halibut PSC limits, as are pot and jig gear for all groundfish fisheries.

Section 679.21(d)(3)(ii) authorizes further apportionment of the trawl halibut PSC limit to trawl fishery categories. The annual apportionments are based on each category's proportional share of the anticipated halibut bycatch mortality during the fishing year and optimization of the total amount of groundfish harvest under the halibut PSC limit. The fishery categories for the trawl halibut PSC limits are (1) a deep-water species fishery, composed of sablefish, rockfish, deep-water flatfish, rex sole, and arrowtooth flounder; and (2) a shallow-water species fishery, composed of pollock, Pacific cod, shallow-water flatfish, flathead sole, Atka mackerel, skates, and “other species” (§ 679.21(d)(3)(iii)). Table 15 lists the final 2012 and 2013 apportionments of Pacific halibut PSC trawl limits between the trawl gear deep-water and the shallow-water species fisheries.

Table 15—Final 2012 and 2013 Apportionment of Pacific Halibut PSC Trawl Limits Between the Trawl Gear Deep-Water Species Fishery and the Shallow-Water Species Fishery
[Values are in metric tons]
Season | Shallow-water | Deep-water ¹ | Total
January 20-April 1 | 450 | 100 | 550
April 1-July 1 | 100 | 300 | 400
July 1-September 1 | 200 | 400 | 600
September 1-October 1 | 150 | Any remainder | 150
Subtotal January 20-October 1 | 900 | 800 | 1,700
October 1-December 31 ² |  |  | 300
Total |  |  | 2,000
¹ Vessels participating in cooperatives in the Central GOA Rockfish Program will receive a portion of the third season (July 1 through September 1) deep-water species fishery halibut PSC apportionment. This amount is not currently known, but will be posted later on the Alaska Region web site (http://alaskafisheries.noaa.gov) when it becomes available in March.
² There is no apportionment between shallow-water and deep-water trawl species fisheries during the fifth season (October 1 through December 31).

Under Amendment 83 to the GOA FMP, which established Pacific cod sector splits, the “other than DSR” halibut PSC apportionment to vessels using hook-and-line gear must be apportioned between CVs and C/Ps (76 FR 74670, December 1, 2011). NMFS must calculate the halibut PSC limit apportionments for the entire GOA to hook-and-line CVs and C/Ps in accordance with (§ 679.21(d)(4)(iii)(B)(1) and (2) in conjunction with these harvest specifications.

A comprehensive description and example of the calculations necessary to apportion the “other than DSR” hook-and-line halibut PSC limit between the hook-and-line CV and C/P sectors were included in the proposed rule to implement Amendment 83 (76 FR 44700, July 26, 2011) and is not repeated here. For 2012 and 2013, NMFS is apportioning halibut PSC limits of 173 mt and 117 mt to the hook-and-line CV and hook-and-line C/P sectors, respectively. In addition, these annual limits are divided into three seasonal apportionments, using seasonal percentages of 86 percent, 2 percent, and 12 percent. Table 16 lists the 2012 and 2013 annual and seasonal halibut PSC apportionments between the hook-and-line sectors in the GOA.

No later than November 1, NMFS will determine whether either of the hook-and-line sectors will have an unused amount of halibut PSC. If so, projected unused amount of halibut PSC will be made available to the other hook-and-line sector for the remainder of that fishing year if NMFS determines that an additional amount of halibut PSC is necessary for that sector to continue its directed fishing operations (§ 679.9(d)(4)(iii)(B)(3)).

Table 16—Apportionments of the “Other Hook-and-Line Fisheries” Annual Halibut PSC Allowance Between the Hook-and-Line Gear Catcher Vessel and Catcher/Processor Sectors
[Values are in metric tons]
“Other than DSR” allowance | Hook-and-line sector | Percent of annual amount | Sector annual amount | Season | Seasonal percentage | Sector seasonal amount
290 | Catcher Vessel | 59.7 | 173 | January 1-June 10 | 86 | 149
|  |  |  | June 10-September 1 | 2 | 3
|  |  |  | September 1-December 31 | 12 | 21
| Catcher/Processor | 40.3 | 117 | January 1-June 10 | 86 | 101
|  |  |  | June 10-September 1 | 2 | 2
|  |  |  | September 1-December 31 | 12 | 14

The Rockfish Program requires NMFS to allocate a fixed amount of the deep-water species fishery's halibut PSC third seasonal apportionment to participants in the Rockfish Program. This amount is based on 87.5 percent of the 2000 through 2006 average halibut mortality usage of 219 mt. Of this amount, 117.3 mt of the halibut PSC is allocated to the CV sector and 74.1 mt is allocated to the C/P sector. The remaining 12.5 percent, or 38 mt, would no longer be annually apportioned for use by fisheries using trawl gear in the GOA.

Regulations implementing the Rockfish Program (76 FR 81248, December 27, 2011) limit the amount of the halibut PSC limit allocated to Rockfish Program participants that could be re-apportioned to the general GOA trawl fisheries (§ 679.21(d)(5)(iii)(B)). Halibut PSC limit reallocations to the non-Rockfish Program trawl fisheries from the Rockfish Program are limited to no more than 55 percent of the unused annual halibut PSC apportioned to Rockfish Program participants. The remainder of the unused Rockfish Program halibut PSC limit is unavailable for use by vessels directed fishing with trawl gear for the remainder of the fishing year.

Estimated Halibut Bycatch in Prior Years

The best available information on estimated halibut bycatch was data collected by fisheries observers during 2011. The calculated halibut bycatch mortality by trawl, hook-and-line, and pot gear in 2011 is 1,847 mt, 240 mt, and 45 mt, respectively, for a total halibut mortality of 2,132 mt.

Halibut bycatch restrictions seasonally constrained trawl gear fisheries during the 2011 fishing year. Table 17 lists the closure dates for fisheries that resulted from the attainment of seasonal or annual halibut PSC limits.

Table 17—2011 Fishery Closures Due to Attainment of Pacific Halibut PSC Limits
Fishery category | Opening date | Closure date | Federal Register citation
Trawl Deep-water, season 2 | January 20, 2011 | April 22, 2011 | 76 FR 23511, April 27, 2011.
Trawl Shallow-water,¹ season 4 | September 1, 2011 | September 3, 2011 | 76 FR 55276, September 7, 2011.
Trawl Shallow-water,¹ season 4 | September 14, 2011 | September 16, 2011 | 76 FR 57679, September 16, 2011.
Trawl Shallow-water,¹ season 4 | September 20, 2011 | Remained open through December 31, 2011 |
Hook-and-line gear, all targets ² | January 1, 2011 | Remained open through December 31, 2011 |
¹ With the exception of vessels participating in the Central GOA Rockfish Program and vessels fishing for pollock using pelagic trawl gear.
² With the exception of the sablefish fishery which was open March 12, 2011, through November 18, 2011.

Current Estimates of Halibut Biomass and Stock Condition

The IPHC annually assesses the abundance and potential yield of the Pacific halibut using all available data from the commercial and sport fisheries, other removals, and scientific surveys. Additional information on the Pacific halibut stock assessment may be found in the IPHC's 2011 Pacific halibut stock assessment (December 2011), available on the IPHC Web site at www.iphc.int. The IPHC considered the 2011 Pacific halibut assessment for 2012 at its January 2012 annual meeting when it set the 2012 commercial halibut fishery catch limits.

The halibut resource is fully utilized. Recent catches in the commercial halibut fisheries in Alaska over the last 18 years (1994 through 2011) have averaged 31,535 mt round weight per year. In January 2012, the IPHC recommended Alaska commercial catch limits totaling 15,430 mt round weight for 2012, a 21.5 percent decrease from 19,662 mt in 2011. Through December 31, 2011, commercial hook-and-line harvests of halibut off Alaska totaled 19,140 mt round weight. The IPHC staff recommendations for commercial catch limits continue to be based on applying the Slow Up—Full Down policy of a 33 percent increase from the previous year's catch limits when stock yields are projected to increase, but uses a 100 percent decrease in recommended catch when stock yields are projected to decrease, as was done for the 2011 fishery.

The largest decreases in the 2012 catch limit recommendations for Alaska are for Area 3A, from 8,685 mt round weight in 2011 to 7,208 mt round weight in 2012; for Area 3B, from 4,542 mt in 2011 to 3,066 mt in 2012; for Area 4A, from 1,458 mt in 2011 to 948 mt in 2012; for Area 4B, from 1,318 mt in 2011 to 1,130 mt in 2012; and for combined Areas CDE, from 2,250 mt in 2011 to 1,491 mt in 2012. The only increase in catch limit recommendations in Alaska is for Area 2C, from 1,409 mt round weight in 2011 to 1,587 mt round weight in 2012.

For more information, see the proposed 2012 and 2013 harvest specifications (76 FR 79620, December 22, 2011), which discusses the potential impacts of expected fishing for groundfish on halibut stocks, as well as methods available for reducing halibut bycatch in the groundfish fisheries.

Halibut Discard Mortality Rates

To monitor halibut bycatch mortality allowances and apportionments, the Regional Administrator uses observed halibut incidental catch rates, discard mortality rates (DMRs), and estimates of groundfish catch to project when a fishery's halibut bycatch mortality allowance or seasonal apportionment is reached. The DMRs are based on the best information available, including information contained in the annual SAFE report.

NMFS is implementing the Council's recommendation that the halibut DMRs developed and recommended by the IPHC for the 2010 through 2012 GOA groundfish fisheries be used for monitoring the final 2012 and 2013 halibut bycatch mortality allowances (see Tables 14 through 16). The IPHC developed the DMRs for the 2010 through 2012 GOA groundfish fisheries using the 10-year mean DMRs for those fisheries. Long-term average DMRs were not available for some fisheries, so rates from the most recent years were used. For the squid, shark, sculpin, octopus, and skate fisheries, where insufficient mortality data are available, the mortality rate of halibut caught in the Pacific cod fishery for that gear type was recommended as a default rate. The IPHC will analyze observer data annually and recommend changes to the DMRs when a fishery DMR shows large variation from the mean. A discussion of the DMRs and their justification is presented in Appendix 2 to the 2009 SAFE report (see ADDRESSES). Table 18 lists the final 2012 and 2013 DMRs. These DMRs are unchanged from the proposed 2012 and 2013 harvest specifications (76 FR 79620, December 22, 2011). In 2012, the IPHC will update its DMR recommendations for the 2013 through 2015 groundfish fisheries.

Table 18—Final 2012 and 2013 Halibut Discard Mortality Rates for Vessels Fishing in the Gulf of Alaska
[Values are percent of halibut assumed to be dead]
Gear | Target fishery | Mortality rate (%)
Hook-and-line | Other fisheries ¹ | 12
| Skates | 12
| Pacific cod | 12
| Rockfish | 9
Trawl | Arrowtooth flounder | 72
| Deep-water flatfish | 48
| Flathead sole | 65
| Non-pelagic pollock | 59
| Other fisheries | 62
| Pacific cod | 62
| Pelagic pollock | 76
| Rex sole | 64
| Rockfish | 67
| Sablefish | 65
| Shallow-water flatfish | 71
Pot | Other fisheries | 17
| Pacific cod | 17
¹ Other fisheries includes all gear types for sculpin, shark, skate, squids, octopuses, and hook-and-line sablefish.

American Fisheries Act C/P and CV Groundfish Harvest and PSC Limits

Section 679.64 establishes groundfish harvesting and processing sideboard limitations on AFA C/Ps and CVs in the GOA. These sideboard limits are necessary to protect the interests of fishermen and processors who do not directly benefit from the AFA from those fishermen and processors who receive exclusive harvesting and processing privileges under the AFA. Section 679.7(k)(1)(ii) prohibits listed AFA C/Ps from harvesting any species of groundfish in the GOA. Section 679.7(k)(1)(iv) prohibits listed AFA C/Ps from processing any pollock harvested in a directed pollock fishery in the GOA and any groundfish harvested in Statistical Area 630 of the GOA.

AFA CVs that are less than 125 ft (38.1 meters) length overall, have annual landings of pollock in the Bering Sea and Aleutian Islands less than 5,100 mt, and have made at least 40 groundfish landings from 1995 through 1997 are exempt from GOA sideboard limits under § 679.64(b)(2)(ii). Sideboard limits for non-exempt AFA CVs in the GOA are based on their traditional harvest levels of TAC in groundfish fisheries covered by the FMP. Section 679.64(b)(3)(iii) establishes the groundfish sideboard limitations in the GOA based on the retained catch of non-exempt AFA CVs of each sideboard species from 1995 through 1997 divided by the TAC for that species over the same period.

As provided by Amendment 83 to the FMP (76 FR 74670, December 1, 2011), NMFS has recalculated and establishes sideboards limitations for Pacific cod for the non-exempt AFA CVs in the Western and Central GOA that would supersede the inshore and offshore processing sideboards established under the AFA. The sideboard limits for other species would continue to be calculated as they have in the past, including the Eastern GOA Pacific cod sideboard limits. Tables 19 and 20 list the final 2012 and 2013 groundfish sideboard limits for non-exempt AFA CVs. NMFS will deduct all targeted or incidental catch of sideboard species made by non-exempt AFA CVs from the sideboard limits listed in Tables 19 and 20.

Table 19—Final 2012 GOA Non-Exempt American Fisheries Act Catcher Vessel (CV) Groundfish Harvest Sideboard Limits
[Values are rounded to the nearest metric ton]
Species | Apportionments by season/gear | Area/component | Ratio of 1995-1997 non-exempt AFA CV catch to 1995-1997 TAC | Final 2012 TACs | Final 2012 non-exempt AFA CV sideboard limit
Pollock | A Season January 20—March 10 | Shumagin (610) | 0.6047 | 5,797 | 3,505
|  | Chirikof (620) | 0.1167 | 14,023 | 1,636
|  | Kodiak (630) | 0.2028 | 5,787 | 1,174
| B Season March 10-May 31 | Shumagin (610) | 0.6047 | 5,797 | 3,505
|  | Chirikof (620) | 0.1167 | 17,221 | 2,010
|  | Kodiak (630) | 0.2028 | 2,589 | 525
| C Season August 25-October 1 | Shumagin (610) | 0.6047 | 9,338 | 5,647
|  | Chirikof (620) | 0.1167 | 7,282 | 850
|  | Kodiak (630) | 0.2028 | 8,986 | 1,822
| D Season October 1-November 1 | Shumagin (610) | 0.6047 | 9,338 | 5,647
|  | Chirikof (620) | 0.1167 | 7,282 | 850
|  | Kodiak (630) | 0.2028 | 8,986 | 1,822
| Annual | WYK (640) | 0.3495 | 3,244 | 1,134
|  | SEO (650) | 0.3495 | 10,774 | 3,766
Pacific cod | A Season ¹ January 1-June 10 | W | 0.1331 | 12,614 | 1,679
|  | C | 0.0692 | 25,623 | 1,773
| B Season ² September 1-December 31 | W | 0.1331 | 8,410 | 1,119
|  | C | 0.0692 | 17,082 | 1,182
| Annual | E inshore | 0.0079 | 1,774 | 14
|  | E offshore | 0.0078 | 197 | 2
Sablefish | Annual, trawl gear | W | 0.0000 | 356 | 0
|  | C | 0.0642 | 1,152 | 74
|  | E | 0.0433 | 271 | 12
Flatfish, Shallow-water | Annual | W | 0.0156 | 13,250 | 207
|  | C | 0.0587 | 18,000 | 1,057
|  | E | 0.0126 | 5,779 | 73
Flatfish, deep-water | Annual | W | 0.0000 | 176 | 0
|  | C | 0.0647 | 2,308 | 149
|  | E | 0.0128 | 2,642 | 34
Rex sole | Annual | W | 0.0007 | 1,307 | 1
|  | C | 0.0384 | 6,412 | 246
|  | E | 0.0029 | 1,893 | 5
Arrowtooth flounder | Annual | W | 0.0021 | 14,500 | 30
|  | C | 0.0280 | 75,000 | 2,100
|  | E | 0.0002 | 13,800 | 3
Flathead sole | Annual | W | 0.0036 | 8,650 | 31
|  | C | 0.0213 | 15,400 | 328
|  | E | 0.0009 | 6,269 | 6
Pacific ocean perch | Annual | W | 0.0023 | 2,102 | 5
|  | C | 0.0748 | 11,263 | 842
|  | E | 0.0466 | 3,553 | 166
Northern rockfish | Annual | W | 0.0003 | 2,156 | 1
|  | C | 0.0277 | 3,351 | 93
Shortraker rockfish | Annual | W | 0.0000 | 104 | 0
|  | C | 0.0218 | 452 | 10
|  | E | 0.0110 | 525 | 6
Other rockfish | Annual | W | 0.0034 | 44 | 0
|  | C | 0.1699 | 606 | 103
|  | E | 0.0000 | 430 | 0
Pelagic shelf rockfish | Annual | W | 0.0001 | 409 | 0
|  | C | 0.0000 | 3,849 | 0
|  | E | 0.0067 | 860 | 6
Rougheye rockfish | Annual | W | 0.0000 | 80 | 0
|  | C | 0.0237 | 850 | 20
|  | E | 0.0124 | 293 | 4
Demersal shelf rockfish | Annual | SEO | 0.0020 | 293 | 1
Thornyhead rockfish | Annual | W | 0.0280 | 150 | 4
|  | C | 0.0280 | 766 | 21
|  | E | 0.0280 | 749 | 21
Atka mackerel | Annual | Gulfwide | 0.0309 | 2,000 | 62
Big skates | Annual | W | 0.0063 | 469 | 3
|  | C | 0.0063 | 1,793 | 11
|  | E | 0.0063 | 1,505 | 9
Longnose skates | Annual | W | 0.0063 | 70 | 0
|  | C | 0.0063 | 1,879 | 12
|  | E | 0.0063 | 676 | 4
Other skates | Annual | Gulfwide | 0.0063 | 2,030 | 13
Squids | Annual | Gulfwide | 0.0063 | 1,148 | 7
Sharks | Annual | Gulfwide | 0.0063 | 6,028 | 38
Octopuses | Annual | Gulfwide | 0.0063 | 1,455 | 9
Sculpins | Annual | Gulfwide | 0.0063 | 5,731 | 36
¹ The Pacific cod A season for trawl gear does not open until January 20.
² The Pacific cod B season for trawl gear closes November 1.

Table 20—Final 2013 GOA Non-Exempt American Fisheries Act Catcher Vessel (CV) Groundfish Harvest Sideboard Limits
[Values are rounded to the nearest metric ton]
Species | Apportionments by season/gear | Area/component | Ratio of 1995-1997 non-exempt AFA CV catch to 1995-1997 TAC | Final 2013 TACs | Final 2013 non-exempt AFA CV sideboard limit
Pollock | A Season January 20-March 10 | Shumagin (610) | 0.6047 | 6,285 | 3,801
|  | Chirikof (620) | 0.1167 | 15,202 | 1,774
|  | Kodiak (630) | 0.2028 | 6,274 | 1,272
| B Season March 10-May 31 | Shumagin (610) | 0.6047 | 6,285 | 3,801
|  | Chirikof (620) | 0.1167 | 18,668 | 2,179
|  | Kodiak (630) | 0.2028 | 2,807 | 569
| C Season August 25-October 1 | Shumagin (610) | 0.6047 | 10,123 | 6,121
|  | Chirikof (620) | 0.1167 | 7,896 | 821
|  | Kodiak (630) | 0.2028 | 9,742 | 1,976
| D Season October 1-November 1 | Shumagin (610) | 0.6047 | 10,123 | 6,121
|  | Chirikof (620) | 0.1167 | 7,896 | 921
|  | Kodiak (630) | 0.2028 | 9,742 | 1,976
| Annual | WYK (640) | 0.3495 | 3,517 | 1,229
|  | SEO (650) | 0.3495 | 10,774 | 3,766
Pacific cod | A Season ¹ January 1-June 10 | W | 0.1331 | 13,104 | 1,744
|  | C | 0.0692 | 26,618 | 1,842
| B Season ² September 1-December 31 | W | 0.1331 | 8,736 | 1,163
|  | C | 0.0692 | 17,745 | 1,228
| Annual | E inshore | 0.0079 | 1,842 | 15
|  | E offshore | 0.0078 | 205 | 2
Sablefish | Annual, trawl gear | W | 0.0000 | 351 | 0
|  | C | 0.0642 | 1,137 | 73
|  | E | 0.0433 | 268 | 12
Flatfish, Shallow-water | Annual | W | 0.0156 | 13,250 | 207
|  | C | 0.0587 | 18,000 | 1,057
|  | E | 0.0126 | 5,300 | 67
Flatfish, deep-water | Annual | W | 0.0000 | 176 | 0
|  | C | 0.0647 | 2,308 | 149
|  | E | 0.0128 | 2,642 | 34
Rex sole | Annual | W | 0.0007 | 1,283 | 1
|  | C | 0.0384 | 6,291 | 242
|  | E | 0.0029 | 1,858 | 5
Arrowtooth flounder | Annual | W | 0.0021 | 14,500 | 30
|  | C | 0.0280 | 75,000 | 2,100
|  | E | 0.0002 | 13,800 | 3
Flathead sole | Annual | W | 0.0036 | 8,650 | 31
|  | C | 0.0213 | 14,500 | 309
|  | E | 0.0009 | 6,358 | 6
Pacific ocean perch | Annual | W | 0.0023 | 2,050 | 5
|  | C | 0.0748 | 10,985 | 822
|  | E | 0.0466 | 3,465 | 161
Northern rockfish | Annual | W | 0.0003 | 2,017 | 1
|  | C | 0.0277 | 3,136 | 87
Shortraker rockfish | Annual | W | 0.0000 | 104 | 0
|  | C | 0.0218 | 452 | 10
|  | E | 0.0110 | 525 | 6
Other rockfish | Annual | W | 0.0034 | 44 | 0
|  | C | 0.1699 | 606 | 103
|  | E | 0.0000 | 430 | 0
Pelagic shelf rockfish | Annual | W | 0.0001 | 381 | 0
|  | C | 0.0000 | 3,581 | 0
|  | E | 0.0067 | 800 | 5
Rougheye rockfish | Annual | W | 0.0000 | 82 | 0
|  | C | 0.0237 | 861 | 20
|  | E | 0.0124 | 297 | 4
Demersal shelf rockfish | Annual | SEO | 0.0020 | 293 | 1
Thornyhead rockfish | Annual | W | 0.0280 | 150 | 4
|  | C | 0.0280 | 766 | 21
|  | E | 0.0280 | 749 | 21
Atka mackerel | Annual | Gulfwide | 0.0309 | 2,000 | 13
Big skates | Annual | W | 0.0063 | 469 | 3
|  | C | 0.0063 | 1,793 | 11
|  | E | 0.0063 | 1,505 | 9
Longnose skates | Annual | W | 0.0063 | 70 | 0
|  | C | 0.0063 | 1,879 | 12
|  | E | 0.0063 | 676 | 4
Other skates | Annual | Gulfwide | 0.0063 | 2,030 | 13
Squids | Annual | Gulfwide | 0.0063 | 1,148 | 7
Sharks | Annual | Gulfwide | 0.0063 | 6,028 | 38
Octopuses | Annual | Gulfwide | 0.0063 | 1,455 | 9
Sculpins | Annual | Gulfwide | 0.0063 | 5,731 | 36
¹ The Pacific cod A season for trawl gear does not open until January 20.
² The Pacific cod B season for trawl gear closes November 1.

Non-Exempt AFA Catcher Vessel Halibut PSC Limits

The halibut PSC sideboard limits for non-exempt AFA CVs in the GOA are based on the aggregate retained groundfish catch by non-exempt AFA CVs in each PSC target category from 1995 through 1997 divided by the retained catch of all vessels in that fishery from 1995 through 1997 (§ 679.64(b)(4)). Table 21 lists the final 2012 and 2013 non-exempt AFA CV halibut PSC limits for vessels using trawl gear in the GOA. These halibut PSC limits are unchanged from the proposed 2012 and 2013 harvest specifications.

Table 21—Final 2012 and 2013 Non-Exempt AFA CV Halibut Prohibited Species Catch (PSC) Limits for Vessels Using Trawl Gear in the GOA
[Values are rounded to nearest metric ton]
Season | Season dates | Target fishery | Ratio of 1995-1997 non-exempt AFA CV retained catch to total retained catch | 2012 and 2013 PSC limit | 2012 and 2013 non-exempt AFA CV PSC limit
1 | January 20-April 1 | shallow-water | 0.340 | 450 | 153
|  | deep-water | 0.070 | 100 | 7
2 | April 1-July 1 | shallow-water | 0.340 | 100 | 34
|  | deep-water | 0.070 | 300 | 21
3 | July 1-September 1 | shallow-water | 0.340 | 200 | 68
|  | deep-water | 0.070 | 400 | 28
4 | September 1-October 1 | shallow-water | 0.340 | 150 | 51
|  | deep-water | 0.070 | 0 | 0
5 | October 1-December 31 | all targets | 0.205 | 300 | 62

Non-AFA Crab Vessel Groundfish Harvest Limitations

Section 680.22 establishes groundfish catch limits for vessels with a history of participation in the Bering Sea snow crab fishery to prevent these vessels from using the increased flexibility provided by the Crab Rationalization Program to expand their level of participation in the GOA groundfish fisheries. Sideboard limits restrict these vessels' catch to their collective historical landings in each GOA groundfish fishery (except the fixed-gear sablefish fishery). Sideboard limits also apply to catch made using a LLP license derived from the history of a restricted vessel, even if that LLP license is used on another vessel.

Vessels exempt from Pacific cod sideboards are those that landed less than 45,359 kilograms of Bering Sea snow crab and more than 500 mt of groundfish (in round weight equivalents) from the GOA between January 1, 1996, and December 31, 2000, and any vessel named on an LLP license that was based in whole or in part on the fishing history of a vessel meeting the criteria in § 680.22(a)(3).

Sideboard limits for non-AFA crab vessels in the GOA are based on their traditional harvest levels of TAC in groundfish fisheries covered by the FMP. Sections 680.22(d) and (e) establish the formulas used to calculate groundfish sideboard limitations in the GOA. These limitations are calculated by dividing the non-AFA crab vessels' retained catch for each sideboard species from 1996 through 2000 divided by the total retained harvest of that species over the same period.

NMFS issued a final rule on June 20, 2011 (76 FR 35772), to implement Amendment 34 to the Fishery Management Plan for Bering Sea/Aleutian Islands King and Tanner Crabs. Amendment 34 amended the Bering Sea and Aleutian Islands Crab Rationalization Program to exempt additional recipients of crab quota share from GOA pollock and Pacific cod sideboards. Such sideboards apply to some vessels and LLP licenses that are used to participate in these two fisheries. The sideboard ratios for pollock are unchanged. The sideboard ratios for Pacific cod in the Western GOA have been superseded by the Pacific cod sector splits implemented by Amendment 83, which includes dividing the Pacific cod sideboards among applicable industry sectors.

Under Amendment 83 (76 FR 74670, December 1, 2011), the non-AFA crab vessel sideboards for the inshore and offshore components in the Western and Central GOA were combined. These combined sideboards must then be divided per the sector allocations established under Amendment 83. Thus, NMFS is specifying sideboard limitations in the Pacific cod fisheries for the non-AFA crab vessels in the Western and Central GOA that supersede the original inshore offshore and offshore processing sideboards established under the Crab Rationalization Program. Tables 22 and 23 list the final 2012 and 2013 groundfish sideboard limitations for non-AFA crab vessels. All targeted or incidental catch of sideboard species made by non-AFA crab vessels or associated LLP licenses will be deducted from these sideboard limits.

Table 22—Final 2012 GOA Non-American Fisheries Act Crab Vessel Groundfish Harvest Sideboard Limits
[Values are rounded to the nearest metric ton]
Species | Season/gear | Area/component/gear | Ratio of 1996-2000 non-AFA crab vessel catch to 1996-2000 total harvest | Final 2012 TACs | Final 2012 non-AFA crab vessel sideboard limit
Pollock | A Season January 20-March 10 | Shumagin (610) | 0.0098 | 5,797 | 57
|  | Chirikof (620) | 0.0031 | 14,023 | 43
|  | Kodiak (630) | 0.0002 | 5,787 | 1
| B Season March 10-May 31 | Shumagin (610) | 0.0098 | 5,797 | 57
|  | Chirikof (620) | 0.0031 | 17,221 | 53
|  | Kodiak (630) | 0.0002 | 2,589 | 1
| C Season August 25-October 1 | Shumagin (610) | 0.0098 | 9,338 | 92
|  | Chirikof (620) | 0.0031 | 7,282 | 23
|  | Kodiak (630) | 0.0002 | 8,986 | 2
| D Season October 1-November 1 | Shumagin (610) | 0.0098 | 9,338 | 92
|  | Chirikof (620) | 0.0031 | 7,282 | 23
|  | Kodiak (630) | 0.0002 | 8,986 | 2
| Annual | WYK (640) | 0.0000 | 3,244 | 0
|  | SEO (650) | 0.0000 | 10,774 | 0
Pacific cod | A Season ¹ January 1-June 10 | W Jig | 0.0000 | 12,614 | 0
|  | W Hook-and-line CV | 0.0004 | 12,614 | 5
|  | W Hook-and-line C/P | 0.0018 | 12,614
|  | W Pot CV | 0.0997 | 12,614 | 1,258
|  | W Pot C/P | 0.0078 | 12,614 | 98
|  | W Trawl CV | 0.0007 | 12,614 | 9
|  | C Jig | 0.0000 | 25,623 | 0
|  | C Hook-and-line CV | 0.0001 | 25,623 | 3
|  | C Hook-and-line C/P | 0.0012 | 25,623 | 31
|  | C Pot CV | 0.0474 | 25,623 | 1,215
|  | C Pot C/P | 0.0136 | 25,623 | 348
|  | C Trawl CV | 0.0012 | 25,623 | 31
| B Season ² Jig Gear: June 10-December 31. All other gears: September 1-December 31 | W Jig | 0.0000 | 8,410 | 0
|  | W Hook-and-line CV | 0.0004 | 8,410 | 3
|  | W Hook-and-line C/P | 0.0001 | 8,410 | 15
|  | W Pot CV | 0.0997 | 8,410 | 838
|  | W Pot C/P | 0.0078 | 8,410 | 66
|  | W Trawl CV | 0.0007 | 8,410 | 6
|  | C Jig | 0.0000 | 17,082 | 0
|  | C Hook-and-line CV | 0.0001 | 17,082 | 2
|  | C Hook-and-line C/P | 0.0012 | 17,082 | 20
|  | C Pot CV | 0.0474 | 17,082 | 810
|  | C Pot C/P | 0.0136 | 17,082 | 232
|  | C Trawl CV | 0.0012 | 17,082 | 20
| Annual | E inshore | 0.0110 | 1,774 | 20
|  | E offshore | 0.0000 | 197 | 0
Sablefish | Annual, trawl gear | W | 0.0000 | 356 | 0
|  | C | 0.0000 | 1,152 | 0
|  | E | 0.0000 | 271 | 0
Flatfish, shallow-water | Annual | W | 0.0059 | 13,250 | 78
|  | C | 0.0001 | 18,000 | 2
|  | E | 0.0000 | 5,779 | 0
Flatfish, deep-water | Annual | W | 0.0035 | 176 | 1
|  | C | 0.0000 | 2,308 | 0
|  | E | 0.0000 | 2,642 | 0
Rex sole | Annual | W | 0.0000 | 1,307 | 0
|  | C | 0.0000 | 6,412 | 0
|  | E | 0.0000 | 1,893 | 0
Arrowtooth flounder | Annual | W | 0.0004 | 14,500 | 6
|  | C | 0.0001 | 75,000 | 8
|  | E | 0.0000 | 13,800 | 0
Flathead sole | Annual | W | 0.0002 | 8,650 | 2
|  | C | 0.0004 | 14,500 | 6
|  | E | 0.0000 | 6,269 | 0
Pacific ocean perch | Annual | W | 0.0000 | 2,102 | 0
|  | C | 0.0000 | 11,263 | 0
|  | E | 0.0000 | 3,553 | 0
Northern rockfish | Annual | W | 0.0005 | 2,156 | 1
|  | C | 0.0000 | 3,351 | 0
Shortraker rockfish | Annual | W | 0.0013 | 104 | 0
|  | C | 0.0012 | 452 | 1
|  | E | 0.0009 | 525 | 0
Other rockfish | Annual | W | 0.0035 | 44 | 0
|  | C | 0.0033 | 606 | 2
|  | E | 0.0000 | 430 | 0
Pelagic shelf rockfish | Annual | W | 0.0017 | 409 | 1
|  | C | 0.0000 | 3,849 | 0
|  | E | 0.0000 | 860 | 0
Rougheye rockfish | Annual | W | 0.0067 | 80 | 1
|  | C | 0.0047 | 850 | 4
|  | E | 0.0008 | 293 | 0
Demersal shelf rockfish | Annual | SEO | 0.0000 | 293 | 0
Thornyhead rockfish | Annual | W | 0.0047 | 150 | 1
|  | C | 0.0066 | 766 | 5
|  | E | 0.0045 | 749 | 3
Atka mackerel | Annual | Gulfwide | 0.0000 | 2,000 | 0
Big skate | Annual | W | 0.0392 | 469 | 18
|  | C | 0.0159 | 1,793 | 29
|  | E | 0.0000 | 1,505 | 0
Longnose skate | Annual | W | 0.0392 | 70 | 3
|  | C | 0.0159 | 1,879 | 30
|  | E | 0.0000 | 676 | 0
Other skates | Annual | Gulfwide | 0.0176 | 2,030 | 36
Squids | Annual | Gulfwide | 0.0176 | 1,148 | 20
Sharks | Annual | Gulfwide | 0.0176 | 6,028 | 106
Octopuses | Annual | Gulfwide | 0.0176 | 1,455 | 26
Sculpins | Annual | Gulfwide | 0.0176 | 5,731 | 101
¹ The Pacific cod A season for trawl gear does not open until January 20.
² The Pacific cod B season for trawl gear closes November 1.

Table 23—Final 2013 GOA Non-American Fisheries Act Crab Vessel Groundfish Harvest Sideboard Limits
[Values are rounded to the nearest metric ton]
Species | Season/gear | Area/component/gear | Ratio of 1996-2000 non-AFA crab vessel catch to 1996-2000 total harvest | Final 2013 TACs | Final 2013 non-AFA crab vessel sideboard limit
Pollock | A Season January 20-March 10 | Shumagin (610) | 0.0098 | 6,285 | 62
|  | Chirikof (620) | 0.0031 | 15,202 | 47
|  | Kodiak (630) | 0.0002 | 6,274 | 1
| B Season March 10-May 31 | Shumagin (610) | 0.0098 | 6,285 | 62
|  | Chirikof (620) | 0.0031 | 18,668 | 58
|  | Kodiak (630) | 0.0002 | 2,806 | 1
| C Season August 25-October 1 | Shumagin (610) | 0.0098 | 10,123 | 99
|  | Chirikof (620) | 0.0031 | 7,896 | 24
|  | Kodiak (630) | 0.0002 | 9,743 | 2
| D Season October 1-November 1 | Shumagin (610) | 0.0098 | 10,123 | 99
|  | Chirikof (620) | 0.0031 | 7,896 | 24
|  | Kodiak (630) | 0.0002 | 9,743 | 2
| Annual | WYK (640) | 0.0000 | 3,517 | 0
|  | SEO (650) | 0.0000 | 10,774 | 0
Pacific cod | A Season ¹ January 1-June 10 | W Jig | 0.0000 | 13,104 | 0
|  | W Hook-and-line CV | 0.0004 | 13,104 | 5
|  | W Hook-and-line C/P | 0.0018 | 13,104 | 24
|  | W Pot CV | 0.0997 | 13,104 | 1,306
|  | W Pot C/P | 0.0078 | 13,104 | 102
|  | W Trawl CV | 0.0007 | 13,104 | 9
|  | C Jig | 0.0000 | 26,618 | 0
|  | C Hook-and-line CV | 0.0001 | 26,618 | 3
|  | C Hook-and-line C/P | 0.0012 | 26,618 | 32
|  | C Pot CV | 0.0474 | 26,618 | 1262
|  | C Pot C/P | 0.0136 | 26,618 | 362
|  | C Trawl CV | 0.0012 | 26,618 | 32
| B Season² Jig Gear: June 10-December 31. All other gears: September 1-December 31 | W Jig | 0.0000 | 8,736 | 0
|  | W Hook-and-line CV | 0.0004 | 8,736 | 3
|  | W Hook-and-line C/P | 0.0018 | 8,736 | 16
|  | W Pot CV | 0.0997 | 8,736 | 871
|  | W Pot C/P | 0.0078 | 8,736 | 68
|  | W Trawl CV | 0.0012 | 8,736 | 6
|  | C Jig | 0.0000 | 17,745 | 0
|  | C Hook-and-line CV | 0.0001 | 17,745 | 2
|  | C Hook-and-line C/P | 0.0012 | 17,745 | 21
|  | C Pot CV | 0.0474 | 17,745 | 841
|  | C Pot C/P | 0.0136 | 17,745 | 241
|  | C Trawl CV | 0.0012 | 17,745 | 21
| Annual | E inshore | 0.0110 | 1,842 | 20
|  | E offshore | 0.0000 | 205 | 0
Sablefish | Annual, trawl gear | W | 0.0000 | 351 | 0
|  | C | 0.0000 | 1,137 | 0
|  | E | 0.0000 | 268 | 0
Flatfish, shallow-water | Annual | W | 0.0059 | 13,250 | 78
|  | C | 0.0001 | 18,000 | 2
|  | E | 0.0000 | 5,330 | 0
Flatfish, deep-water | Annual | W | 0.0035 | 176 | 1
|  | C | 0.0000 | 2,308 | 0
|  | E | 0.0000 | 2,642 | 0
Rex sole | Annual | W | 0.0000 | 1,283 | 0
|  | C | 0.0000 | 6,291 | 0
|  | E | 0.0000 | 1,858 | 0
Arrowtooth flounder | Annual | W | 0.0004 | 14,500 | 6
|  | C | 0.0001 | 75,000 | 8
|  | E | 0.0000 | 13,800 | 0
Flathead sole | Annual | W | 0.0002 | 8,650 | 2
|  | C | 0.0004 | 14,500 | 6
|  | E | 0.0000 | 6,358 | 0
Pacific ocean perch | Annual | W | 0.0000 | 2,050 | 0
|  | C | 0.0000 | 10,985 | 0
|  | E | 0.0000 | 3,465 | 0
Northern rockfish | Annual | W | 0.0005 | 2,017 | 1
|  | C | 0.0000 | 3,136 | 0
Shortraker rockfish | Annual | W | 0.0013 | 104 | 0
|  | C | 0.0012 | 452 | 1
|  | E | 0.0009 | 525 | 0
Other rockfish | Annual | W | 0.0035 | 44 | 0
|  | C | 0.0033 | 606 | 2
|  | E | 0.0000 | 430 | 0
Pelagic shelf rockfish | Annual | W | 0.0017 | 381 | 1
|  | C | 0.0000 | 3,581 | 0
|  | E | 0.0000 | 800 | 0
Rougheye rockfish | Annual | W | 0.0067 | 82 | 1
|  | C | 0.0047 | 861 | 4
|  | E | 0.0008 | 297 | 0
Demersal shelf rockfish | Annual | SEO | 0.0000 | 293 | 0
Thornyhead rockfish | Annual | W | 0.0047 | 150 | 1
|  | C | 0.0066 | 766 | 5
|  | E | 0.0045 | 749 | 3
Atka mackerel | Annual | Gulfwide | 0.0000 | 2,000 | 0
Big skate | Annual | W | 0.0392 | 469 | 18
|  | C | 0.0159 | 1,793 | 29
|  | E | 0.0000 | 1,505 | 0
Longnose skate | Annual | W | 0.0392 | 70 | 3
|  | C | 0.0159 | 1,879 | 30
|  | E | 0.0000 | 676 | 0
Other skates | Annual | Gulfwide | 0.0176 | 2,030 | 36
Squids | Annual | Gulfwide | 0.0176 | 1,148 | 20
Sharks | Annual | Gulfwide | 0.0176 | 6,028 | 106
Octopuses | Annual | Gulfwide | 0.0176 | 1,455 | 26
Sculpins | Annual | Gulfwide | 0.0176 | 5,731 | 101
¹ The Pacific cod A season for trawl gear does not open until January 20.
² The Pacific cod B season for trawl gear closes November 1.

Rockfish Program Groundfish Sideboard and Halibut PSC Limitations

Amendment 88 to the FMP implements the Central GOA Rockfish Program, as previously described in the preamble. The Rockfish Program amendment establishes three classes of sideboard provisions: CV groundfish sideboard restrictions, C/P rockfish sideboard restrictions, and C/P opt-out vessel sideboard restrictions. These sideboards are intended to limit the ability of rockfish harvesters to expand into other fisheries. A full description of the Rockfish Program sideboard provisions is contained in the proposed rule to implement Amendment 88 (76 FR 52148, August 19, 2011).

CVs participating in the Rockfish Program may not participate in directed fishing for northern rockfish, Pacific ocean perch, and pelagic shelf rockfish in the West Yakutat district and Western GOA from July 1 through July 31. Furthermore, CVs may not participate in directed fishing for arrowtooth flounder, deep-water flatfish, and rex sole in the GOA from July 1 through July 31 (§ 679.82(d)).

Amendment 88 also establishes rockfish and halibut PSC sideboard limitations for C/Ps participating in Rockfish Program cooperatives. These C/Ps are prohibited from directed fishing for northern rockfish, Pacific ocean perch, and pelagic shelf rockfish in the West Yakutat district and Western GOA from July 1 through July 31. Holders of C/P-designated LLP licenses that opt-out of participating in a Rockfish Program cooperative will be able to access that portion of each sideboard limit that is not assigned to rockfish cooperatives. Tables 24 and 25 list the final 2012 and 2013 Rockfish Program C/P sideboard limits in the West Yakutat district and the Western GOA. Due to confidentiality requirements associated with fisheries data, the sideboard limits for the West Yakutat district are not displayed.

Table 24—Final 2012 Rockfish Program Harvest Limits by Sector for West Yakutat District and Western GOA by the Catcher/Processor Sector
[Values are rounded to the nearest metric ton]
Area | Fishery | C/P sector (% of TAC) | Final 2012 TACs | Final 2012 C/P limit
West Yakutat District | Pelagic shelf rockfish | Confidential ¹ | 542 | Confidential ¹
| Pacific ocean perch | Confidential ¹ | 1,692 | Confidential ¹
Western GOA | Pelagic shelf rockfish | 72.3 | 409 | 296
| Pacific ocean perch | 50.6 | 2,102 | 1,064
| Northern rockfish | 74.3 | 2,156 | 1,602
¹ Not released due to confidentiality requirements associated with fish ticket data established by NMFS and the State of Alaska.

Table 25—Final 2013 Rockfish Program Harvest Limits by Sector for West Yakutat District and Western GOA by the Catcher/Processor Sector
[Values are rounded to the nearest metric ton]
Area | Fishery | C/P sector (% of TAC) | Final 2013 TACs | Final 2013 C/P limit
West Yakutat District | Pelagic shelf rockfish | Confidential ¹ | 504 | Confidential ¹
| Pacific ocean perch | Confidential ¹ | 1,650 | Confidential ¹
Western GOA | Pelagic shelf rockfish | 72.3 | 381 | 275
| Pacific ocean perch | 50.6 | 2,050 | 1,037
| Northern rockfish | 74.3 | 2,017 | 1,499
¹ Not released due to confidentiality requirements associated with fish ticket data established by NMFS and the State of Alaska.

The C/P sector is subject to halibut PSC sideboard limits for the trawl deep-water and shallow-water species fisheries during the period July 1 through July 31. No halibut PSC sideboard limits apply to the CV sector. C/Ps that opt-out of the Rockfish Program would be able to access that portion of the deep-water and shallow-water halibut PSC sideboard limit not assigned to C/P rockfish cooperatives. The sideboard provisions for C/Ps that elect to opt-out of participating in a rockfish cooperative are described in the final rule implementing Amendment 88 (76 FR 81248, December 27, 2011). These ratios and amounts are not known at this time because vessels applications for C/Ps electing to opt-out are due to NMFS on March 1 of each calendar year, thereby preventing NMFS from calculating final 2012 and 2013 allocations. NMFS will post these allocations on the Alaska Region Web site at http://alaskafisheries.noaa.gov/sustainablefisheries/goarat/default.htm when they become available in March. Table 26 lists the final 2012 and 2013 Rockfish Program halibut PSC limits for the C/P sector.

Table 26—Final 2012 and 2013 Rockfish Program Halibut Mortality Limits for the Catcher/Processor Sector
[Values are rounded to the nearest metric ton]
Sector | Shallow-water complex halibut PSC sideboard ratio (percent) | Deep-water complex halibut PSC sideboard ratio (percent) | Annual halibut mortality limit (mt) | Annual shallow- water complex halibut PSC sideboard limit (mt) | Annual deep-water complex halibut PSC sideboard limit (mt)
Catcher/processor | 0.10 | 2.50 | 2,000 | 2 | 50

Amendment 80 Program Groundfish and PSC Sideboard Limits

Amendment 80 to the Fishery Management Plan for Groundfish of the Bering Sea and Aleutian Islands Management Area (Amendment 80 Program) established a limited access privilege program for the non-AFA trawl C/P sector. To limit the ability of participants eligible for the Amendment 80 Program to expand their harvest efforts in the GOA, the Amendment 80 Program established groundfish and halibut PSC catch limits for Amendment 80 Program participants.

Section 679.92 establishes groundfish harvesting sideboard limits on all Amendment 80 program vessels, other than the F/V GOLDEN FLEECE, to amounts no greater than the limits shown in Table 37 to 50 CFR part 679. Under regulations at § 679.92(d), the F/V GOLDEN FLEECE is prohibited from directed fishing for pollock, Pacific cod, Pacific ocean perch, pelagic shelf rockfish, and northern rockfish in the GOA.

Groundfish sideboard limits for Amendment 80 Program vessels operating in the GOA are based on their average aggregate harvests from 1998 through 2004. Tables 27 and 28 list the final 2012 and 2013 sideboard limits for Amendment 80 Program vessels. These limits are based on the final 2012 and 2013 TACs established by this action, and thus may differ proportionately from the sideboard limits in the proposed harvest specifications. NMFS will deduct all targeted or incidental catch of sideboard species made by Amendment 80 Program vessels from the sideboard limits in Tables 27 and 28.

Table 27—Final 2012 GOA Groundfish Sideboard Limits for Amendment 80 Program Vessels
[Values are rounded to nearest metric ton]
Species | Apportionments and allocations by season | Area | Ratio of Amendment 80 sector vessels 1998-2004 catch to TAC | 2012 TAC (mt) | 2012 Amendment 80 vessel sideboards (mt)
Pollock | A Season January 20-February 25 | Shumagin (610) | 0.003 | 5,797 | 17
|  | Chirikof (620) | 0.002 | 14,023 | 28
|  | Kodiak (630) | 0.002 | 5,787 | 12
| B Season March 10-May 31 | Shumagin (610) | 0.003 | 5,797 | 17
|  | Chirikof (620) | 0.002 | 17,221 | 34
|  | Kodiak (630) | 0.002 | 2,589 | 5
| C Season August 25-September 15 | Shumagin (610) | 0.003 | 9,338 | 28
|  | Chirikof (620) | 0.002 | 7,282 | 15
|  | Kodiak (630) | 0.002 | 8,986 | 18
| D Season October 1-November 1 | Shumagin (610) | 0.003 | 9,338 | 28
|  | Chirikof (620) | 0.002 | 7,282 | 15
| October 1-November 1 | Kodiak (630) | 0.002 | 8,986 | 18
| Annual | WYK (640) | 0.002 | 3,244 | 6
Pacific cod | A Season ¹ January 1-June 10 | W | 0.020 | 12,614 | 252
|  | C | 0.044 | 25,623 | 1,127
| B Season ² September 1-December 31 | W | 0.020 | 8,410 | 168
|  | C | 0.044 | 17,082 | 752
| Annual | WYK | 0.034 | 1,971 | 67
Pacific ocean perch | Annual | W | 0.994 | 2,102 | 2,089
|  | WYK | 0.961 | 1,692 | 1,626
Northern rockfish | Annual | W | 1.000 | 2,156 | 2,156
Pelagic shelf rockfish | Annual | W | 0.764 | 409 | 312
|  | WYK | 0.896 | 542 | 486
¹ The Pacific cod A season for trawl gear does not open until January 20.
² The Pacific cod B season for trawl gear closes November 1.

Table 28—Final 2013 GOA Groundfish Sideboard Limits for Amendment 80 Program Vessels
[Values are rounded to nearest metric ton]
Species | Apportionments and allocations by season | Area | Ratio of Amendment 80 sector vessels 1998-2004 catch to TAC | 2013 TAC (mt) | 2013 Amendment 80 vessel sideboards (mt)
Pollock | A Season January 20-February 25 | Shumagin (610) | 0.003 | 6,285 | 19
|  | Chirikof (620) | 0.002 | 15,202 | 30
|  | Kodiak (630) | 0.002 | 6,274 | 13
| B Season March 10-May 31 | Shumagin (610) | 0.003 | 6,285 | 19
|  | Chirikof (620) | 0.002 | 18,668 | 37
|  | Kodiak (630) | 0.002 | 2,806 | 6
| C Season August 25-September 15 | Shumagin (610) | 0.003 | 10,123 | 30
|  | Chirikof (620) | 0.002 | 7,896 | 16
|  | Kodiak (630) | 0.002 | 9,743 | 19
| D Season October 1-November 1 | Shumagin (610) | 0.003 | 10,123 | 30
|  | Chirikof (620) | 0.002 | 7,896 | 16
|  | Kodiak (630) | 0.002 | 9,743 | 19
| Annual | WYK (640) | 0.002 | 3,517 | 7
Pacific cod | A Season ¹ January 1-June 10 | W | 0.020 | 13,104 | 262
|  | C | 0.044 | 26,618 | 1,171
| B Season ² September 1-December 31 | W | 0.020 | 8,736 | 175
|  | C | 0.044 | 17,745 | 781
| Annual | WYK | 0.034 | 2,047 | 70
Pacific ocean perch | Annual | W | 0.994 | 2,050 | 2,038
|  | WYK | 0.961 | 1,650 | 1,586
Northern rockfish | Annual | W | 1.000 | 2,017 | 2,017
Pelagic shelf rockfish | Annual | W | 0.764 | 381 | 291
|  | WYK | 0.896 | 504 | 452
¹ The Pacific cod A season for trawl gear does not open until January 20.
² The Pacific cod B season for trawl gear closes November 1.

The halibut PSC sideboard limits for Amendment 80 Program vessels in the GOA are based on the historic use of halibut PSC by Amendment 80 Program vessels in each PSC target category from 1998 through 2004. These values are slightly lower than the average historic use to accommodate two factors: allocation of halibut PSC cooperative quota under the Central GOA Rockfish Program and the exemption of the F/V GOLDEN FLEECE from this restriction (§ 679.92(b)(2)). Table 29 lists the final 2012 and 2013 halibut PSC limits for Amendment 80 Program vessels, as contained in Table 38 to 50 CFR part 679. These halibut PSC limits are unchanged from those listed in the proposed 2012 and 2013 harvest specifications.

Table 29—Final 2012 and 2013 Halibut PSC Limits for Amendment 80 Program Vessels in the GOA
[Values are rounded to nearest metric ton]
Season | Season dates | Target fishery | Historic Amendment 80 use of the annual halibut PSC limit catch (ratio) | 2012 and 2013 annual PSC limit (mt) | 2012 and 2013 Amendment 80 vessel PSC limit
1 | January 20-April 1 | shallow-water | 0.0048 | 2,000 | 10
|  | deep-water | 0.0115 | 2,000 | 23
2 | April 1-July 1 | shallow-water | 0.0189 | 2,000 | 38
|  | deep-water | 0.1072 | 2,000 | 214
3 | July 1-September 1 | shallow-water | 0.0146 | 2,000 | 29
|  | deep-water | 0.0521 | 2,000 | 104
4 | September 1-October 1 | shallow-water | 0.0074 | 2,000 | 15
|  | deep-water | 0.0014 | 2,000 | 3
5 | October 1-December 31 | shallow-water | 0.0227 | 2,000 | 45
|  | deep-water | 0.0371 | 2,000 | 74

Directed Fishing Closures

Pursuant to § 679.20(d)(1)(i), if the Regional Administrator determines (1) that any allocation or apportionment of a target species or species group allocated or apportioned to a fishery will be reached; or (2) with respect to pollock and Pacific cod, that an allocation or apportionment to an inshore or offshore component or sector allocation will be reached, the Regional Administrator may establish a directed fishing allowance (DFA) for that species or species group. If the Regional Administrator establishes a DFA and that allowance is or will be reached before the end of the fishing year, NMFS will prohibit directed fishing for that species or species group in the specified GOA regulatory area or district (§ 679.20(d)(1)(iii)).

The Regional Administrator has determined that the TACs for the species listed in Table 30 are necessary to account for the incidental catch of these species in other anticipated groundfish fisheries for the 2012 and 2013 fishing years.

Table 30—2012 and 2013 Directed Fishing Closures in the GOA
[Amounts for incidental catch in other directed fisheries are in metric tons]
Target | Area/component/gear | Incidental catch amount
Pollock | all/offshore | not applicable¹
Sablefish ² | all/trawl | 1,779 (2012)
|  | 1,756 (2013)
Shortraker rockfish ² | all | 1,081
Other rockfish | all | 1,080
Rougheye rockfish | all | 1,223 (2012)
|  | 1,240 (2013)
Thornyhead rockfish | all | 1,665
Atka mackerel | all | 2,000
Big skate | all | 3,767
Longnose skate | all | 2,625
Other skates | all | 2,030
Squids | all | 1,148
Sharks | all | 6,028
Octopuses | all | 1,455
¹ Pollock is closed to directed fishing in the GOA by the offshore component under § 679.20(a)(6)(i).
² Closures not applicable to participants in cooperatives conducted under the Central GOA Rockfish Program.

Consequently, in accordance with § 679.20(d)(1)(i), the Regional Administrator establishes the DFA for the species or species groups listed in Table 30 as zero mt. Therefore, in accordance with § 679.20(d)(1)(iii), NMFS is prohibiting directed fishing for those species, areas, gear types, and components in the GOA listed in Table 30. These closures will remain in effect through 2400 hrs, A.l.t., December 31, 2013.

Section 679.64(b)(5) provides for management of AFA CV groundfish harvest limits and PSC bycatch limits using directed fishing closures and PSC closures according to procedures set out at §§ 679.20(d)(1)(iv), 679.21(d)(8), and 679.21(e)(3)(v). The Regional Administrator has determined that, in addition to the closures listed above, many of the non-exempt AFA CV sideboard limits listed in Tables 19 and 20 are necessary as incidental catch to support other anticipated groundfish fisheries for the 2012 and 2013 fishing years. In accordance with § 679.20(d)(1)(iv), the Regional Administrator sets the DFAs for the species and species groups in Table 31 at zero. Therefore, in accordance with § 679.20(d)(1)(iii), NMFS is prohibiting directed fishing by non-exempt AFA CVs in the GOA for the species and specified areas listed in Table 31. These closures will remain in effect through 2400 hrs, A.l.t., December 31, 2013.

Table 31—2012 and 2013 Non-Exempt AFA CV Sideboard Directed Fishing Closures for All Gear Types in the GOA
[Amounts for incidental catch in other directed fisheries are in metric tons]
Species | Regulatory area/district | Incidental catch amount
Pacific cod | Eastern | 14 (inshore) and 2 (offshore) in 2012
|  | 15 (inshore) and 2 (offshore) in 2013
Shallow-water flatfish | Eastern | 73 in 2012
|  | 67 in 2013
Deep-water flatfish | Western | 0
Rex sole | Eastern and Western | 1 and 5
Arrowtooth flounder | Eastern and Western | 3 and 30
Flathead sole | Eastern and Western | 6 and 31
Pacific ocean perch | Western | 5
Northern rockfish | Western | 1
Pelagic shelf rockfish | Entire GOA | 6 in 2012
|  | 5 in 2013
Demersal shelf rockfish | SEO District | 1
Sculpins | Entire GOA | 36

Section 680.22 provides for the management of non-AFA crab vessel sideboards using directed fishing closures in accordance with § 680.22(e)(2) and (3). The Regional Administrator has determined that the non-AFA crab vessel sideboards listed in Tables 22 and 23 are insufficient to support a directed fishery and has set the sideboard DFA at zero, with the exception of Pacific cod pot CV sector apportionments in the Western and Central Regulatory Areas. Therefore, NMFS is prohibiting directed fishing by non-AFA crab vessels in the GOA for all species and species groups listed in Tables 22 and 23, with the exception of the Pacific cod pot CV sector apportionments in the Western and Central Regulatory Areas.

Section 679.82 provides for the management of Rockfish Program sideboard limits using directed fishing closures in accordance with § 679.82(d) and (e). The Regional Administrator has determined that the CV sideboards listed in Tables 24 and 25 are insufficient to support a directed fishery and has set the sideboard DFA at zero. Therefore, NMFS is closing directed fishing for Pacific ocean perch and pelagic shelf rockfish in the WYK district and the Western Regulatory Area, and for northern rockfish in the Western Regulatory Area by CVs participating in the Central GOA Rockfish Program during the month of July in 2012 and 2013. These closures will remain in effect through 2400 hrs, A.l.t., December 31, 2013.

Closures implemented under the 2011 and 2012 Gulf of Alaska harvest specifications for groundfish (76 FR 11111, March 1, 2011) remain effective under authority of these final 2012 and 2013 harvest specifications, and are posted at the following Web sites: http://alaskafisheries.noaa.gov/index/infobulletins/infobulletins.asp?Yr=2011, and http://alaskafisheries.noaa.gov/2011/status.htm. While these closures are in effect, the maximum retainable amounts at § 679.20(e) and (f) apply at any time during a fishing trip. These closures to directed fishing are in addition to closures and prohibitions found in regulations at 50 CFR part 679. NMFS may implement other closures during the 2012 and 2013 fishing years as necessary for effective conservation and management.

Response to Comments

This action was published as a proposed rule on December 22, 2011 (76 FR 79620), and public comments about it were solicited until January 23, 2012. NMFS received one comment submission containing two general categories of comments. This comment was received from a company involved in the halibut sport fishery in Alaska. These comments are summarized and responded to below.

Comment 1: Maintaining the current Pacific halibut PSC limits for trawl and hook-and-line gear is unacceptable. The halibut exploitable biomass had decreased significantly in recent years, which has adversely affected various user groups, including the commercial halibut IFQ fisheries, guided and unguided sport sectors, and subsistence users. The Council's ongoing effort to consider halibut PSC reductions for the commercial groundfish fisheries in the GOA is commendable. However, the Council has not yet taken final action on that issue, and even if it does in 2012, halibut PSC limit reductions in the GOA may not occur until 2013. Therefore, NMFS and the Council must consider interim PSC reductions, prior to the selection and implementation of any future GOA halibut PSC limit reductions.

Response: The action to revise GOA halibut PSC limits is under development and consideration by the Council. Initially, this potential revision was under consideration for implementation through the 2012 and 2013 harvest specifications. In October 2011, the Council initiated a new action to remove GOA halibut PSC limits from the annual harvest specifications process through an amendment to the GOA FMP. In addition, the action would establish the means to set GOA halibut PSC limits in federal regulations. The Council reviewed a draft Environmental Assessment (EA) and Regulatory Impact Review (RIR) at its February 2012 meeting and is scheduled to take final action on halibut PSC revisions later in 2012. As the effort to review and potentially revise these limits is under active review and consideration by the Council, NMFS does not believe it to be either necessary or appropriate to reduce either the trawl or hook-and-line gear halibut PSC limits as part of the final 2012 and 2013 harvest specifications.

The GOA groundfish fisheries currently are subject to binding halibut PSC limits set by the Council for purposes of halibut conservation. Commercial groundfish fisheries are required to stop fishing when their halibut PSC limits are taken. Directed fisheries for some groundfish species may be closed due to the attainment of halibut PSC limits before the target species' TACs have been fully harvested. Participants in these fisheries incur significant costs to stay within their halibut catch limits. The pending action to revise halibut PSC limits is assessing the economic effects of changes to the current trawl and hook-and-line halibut PSC limits on various components of the GOA groundfish fisheries.

Comment 2: The draft EA and RIR prepared for the pending halibut PSC revision under consideration by the Council are inadequate. The range of alternatives considered for the potential revisions should include higher PSC limit reductions than five, ten, or 15 percent. The EA should be augmented with additional studies pertaining to halibut bycatch effects on other halibut fishery sectors, additional information about the economic impacts of the alternatives, and a more detailed explanation of halibut bycatch estimation and any potential bias associated with estimating halibut bycatch. The RIR should be augmented to fully account for the costs and benefits to each resource user sector, rather than focusing on the commercial sector. Finally, the analysis does not sufficiently address National Standards 1, 8, and 9 of the Magnuson-Steven Act.

Response: NMFS notes the commenter's observations and concerns about the GOA halibut PSC revision EA and RIR. We also encourage the commenter to continue to follow the GOA halibut PSC revision action through the Council and rulemaking processes, and provide additional comments about the action and its associated analytical documents to the Council and NMFS, as appropriate.

Classification

NMFS has determined that these final harvest specifications are consistent with the FMP and with the Magnuson-Stevens Act and other applicable laws.

This action is authorized under 50 CFR 679.20 and is exempt from review under Executive Order 12866 and 13563.

NMFS prepared an EIS for this action (see ADDRESSES) and made it available to the public on January 12, 2007 (72 FR 1512). On February 13, 2007, NMFS issued the Record of Decision (ROD) for the EIS. In January 2012, NMFS prepared a Supplemental Information Report (SIR) for this action. Copies of the EIS, ROD, and SIR for this action are available from NMFS (see ADDRESSES). The EIS analyzes the environmental consequences of the groundfish harvest specifications and alternative harvest strategies on resources in the action area. The EIS found no significant environmental consequences of this action and its alternatives. The SIR evaluates the need to prepare a Supplemental EIS (SEIS) for the 2012 and 2013 groundfish harvest specifications.

A SEIS should be prepared if (1) the agency makes substantial changes in the proposed action that are relevant to environmental concerns, or (2) significant new circumstances or information exist relevant to environmental concerns and bearing on the proposed action or its impacts (40 CFR 1502.9(c)(1)). After reviewing the information contained in the SIR and SAFE reports, the Regional Administrator has determined that (1) approval of the 2012 and 2013 harvest specifications, which were set according to the preferred harvest strategy in the EIS, do not constitute a change in the action; and (2) there are no significant new circumstances or information relevant to environmental concerns and bearing on the action or its impacts. Additionally, the 2012 and 2013 harvest specifications will result in environmental impacts within the scope of those analyzed and disclosed in the EIS. Therefore, supplemental National Environmental Protection Act documentation is not necessary to implement the 2012 and 2013 harvest specifications.

Pursuant to section 604 of the Regulatory Flexibility Act, 5 U.S.C. 601 et seq., a FRFA was prepared for this action. The FRFA incorporates the IRFA, and includes a summary of the significant issues raised by public comments in response to the IRFA, and NMFS' responses to those comments, and a summary of the analyses completed to support the action.

A copy of the FRFA prepared for this final rule is available from NMFS (see ADDRESSES). A description of this action, its purpose, and its legal basis are contained at the beginning of the preamble to this final rule and are not repeated here.

NMFS published the proposed rule on December 22, 2011. NMFS prepared an Initial Regulatory Flexibility Analysis (IRFA) to accompany this action, and included a summary in the proposed rule. The comment period closed on January 23, 2012. No comments were received on the IRFA. No changes were made from the proposed rule to the final rule based on comments received about the IRFA.

The entities directly regulated by this action are those that receive allocations of groundfish in the EEZ of the GOA, and in parallel fisheries within State of Alaska waters, during the annual harvest specifications process. These directly regulated entities include the groundfish CVs and groundfish C/Ps active in these areas. Direct allocations of groundfish are also made to Central GOA Rockfish Program cooperatives. These entities are, therefore, also considered to be directly regulated.

In 2009, there were 660 individual CVs with revenues less than or equal to $4 million. Some of these vessels are members of AFA inshore pollock cooperatives, or of GOA rockfish cooperatives. Vessels that participate in these cooperatives are considered to be large entities within the meaning of the RFA. After accounting for membership in these cooperatives, there are an estimated 627 small CVs remaining in the GOA.

In 2009, nine C/Ps grossed less than $4 million. Some of these vessels were affiliated through ownership by the same business firm. NMFS estimates that these vessels were owned by eight separate firms. Vessels in this group were also affiliated through membership in two cooperatives (the Amendment 80 Alaska Seafood Cooperative and the Freezer Longline Conservation Cooperative). After taking account of firm and cooperative affiliations, NMFS estimates that these nine vessels represent four small entities.

The number of Rockfish Program cooperatives can change from year to year. In 2010, there were eight separate cooperatives (NMFS 2011). The Rockfish Program cooperatives are directly regulated, since they receive allocations of TAC through the harvest specifications process. The cooperatives are large entities, since they are affiliated with firms with a combined total gross revenue of over $4 million.

This action does not modify recordkeeping or reporting requirements.

NMFS considered alternative harvest strategies when choosing the preferred harvest strategy in December 2006. These included the following:

• Alternative 1: Set TACs to produce fishing mortality rates, F, that are equal to maxFABC, unless the sum of the TACs is constrained by the OY established in the FMPs. This is equivalent to setting TACs to produce harvest levels equal to the maximum permissible ABCs, as constrained by OY. The term “maxFABC” refers to the maximum permissible value of FABC under Amendment 56 to the groundfish FMPs. Historically, the TAC has been set at or below the ABC, therefore, this alternative represents a likely upper limit for setting the TAC within the OY and ABC limits.

• Alternative 3: For species in Tiers 1, 2, and 3, set TAC to produce F equal to the most recent 5-year average actual F. For species in Tiers 4, 5, and 6, set TAC equal to the most recent 5-year average actual catch. For stocks with a high level of scientific information, TACs would be set to produce harvest levels equal to the most recent five year average actual fishing mortality rates. For stocks with insufficient scientific information, TACs would be set equal to the most recent five year average actual catch. This alternative recognizes that for some stocks, catches may fall well below ABCs, and recent average F may provide a better indicator of actual F than FABC does.

• Alternative 4: (1) Set TACs for rockfish species in Tier 3 at F75%. Set TACs for rockfish species in Tier 5 at F=0.5M. Set spatially explicit TACs for shortraker and rougheye rockfish in the GOA. (2) Taking the rockfish TACs as calculated above, reduce all other TACs by a proportion that does not vary across species, so that the sum of all TACs, including rockfish TACs, is equal to the lower bound of the area OY (116,000 mt in the GOA). This alternative sets conservative and spatially explicit TACs for rockfish species that are long-lived and late to mature and sets conservative TACs for the other groundfish species.

• Alternative 5: (No Action) Set TACs at zero.

These alternatives do not both meet the objectives of this action although they have a smaller adverse economic impact on small entities than the preferred alternative. The Council rejected these alternatives as harvest strategies in 2006, and the Secretary did so in 2007.

Alternative 1 selected harvest rates that will allow fishermen to harvest stocks at the level of ABCs, unless total harvests are constrained by the upper bound of the GOA OY of 800,000 metric tons. The sums of ABCs in 2012 and 2013 are 606,048 mt and 612,506 mt, respectively. The sums of the TACs in 2012 and 2013 are 438,159 mt and 447,752 mt, respectively. Thus, although the sum of ABCs in each year is less than 800,000 metric tons, the sums of the TACs in each year are less than the sums of the ABCs.

In most cases, the Council has set TACs equal to ABCs. The divergence between aggregate TACs and aggregate ABCs reflects a variety of special species- and fishery-specific circumstances:

Pacific cod TACs are set equal to 75 percent of the Pacific cod ABCs in each year to account for the guideline harvest levels set by the State of Alaska for Pacific cod in its fisheries that are equal to 25 percent of the Council's ABCs. Thus, this difference does not actually reflect a Pacific cod harvest below the Pacific cod ABC.

Shallow-water flatfish and flathead sole TACs are set below ABCs in the Western and Central GOA regulatory areas. Arrowtooth flounder TACs are set below ABC in all GOA regulatory areas. Catches of these flatfish species rarely, if ever, approach the proposed ABCs or TACs. Important trawl fisheries in the GOA take halibut PSC, and are constrained by limits on the allowable halibut PSC mortality. These limits routinely force the closure of trawl fisheries before they have harvested the available groundfish ABC. Thus, actual harvests of groundfish in the GOA routinely fall short of some ABCs and TACs. Markets can also constrain harvests below the TACs, as has been the case with arrowtooth flounder, in the past. These TACs are set to allow for increased harvest opportunities for these targets while conserving the halibut PSC limit for use in other, more fully utilized, fisheries.

The other rockfish TAC is set below the ABC in the Southeast Outside district based on several factors. In addition to conservation concerns for the rockfish species in this group, there is a regulatory prohibition against using trawl gear east of 140° W. longitude. Because most species of other rockfish are caught exclusively with trawl gear, the catch of such species with other gear types, such as hook-and-line, is low. The commercial catch of other rockfish in the Eastern regulatory area (which includes the West Yakutat and Southeast Outside districts) in the last decade has ranged from approximately 70 mt to 248 mt per year.

The GOA-wide Atka mackerel TAC is set below the ABC. The estimates of survey biomass continue to be unreliable in the GOA. Therefore, the Council recommended and NMFS agrees that the Atka mackerel TAC in the GOA be set at an amount to support incidental catch in other directed fisheries.

Alternative 3 selects harvest rates based on the most recent five years of harvest rates (for species in Tiers 1 through 3) or for the most recent five years of harvests (for species in Tiers 4 through 6). This alternative is inconsistent with the objectives of this action, because it does not take account of the most recent biological information for this fishery.

Alternative 4 would lead to significantly lower harvests of all species to reduce TACs from the upper end of the OY range in the GOA to its lower end of 116,000 metric tons. Overall this would reduce 2012 TACs by about 81 percent. This would lead to significant reductions in harvests of species harvested by small entities. While production declines in the GOA would undoubtedly be associated with price increases in the GOA, these increases would still be constrained by the availability of substitutes, and are very unlikely to offset revenue declines from smaller production. Thus, this action would have a detrimental economic impact on small entities.

Alternative 5, which sets all harvests equal to zero, may also address conservation issues, but would have a significant adverse economic impact on small entities.

In the 2012 and 2013 harvest specifications, yellowtail and widow rockfish have been moved from the pelagic shelf rockfish (PSR) species group to the other rockfish species group. This has been done to leave dusky rockfish alone in the PSR category. Dusky rockfish dominate the PSR category and support a valuable fishery in the Western and Central GOA. Dusky rockfish have been assessed with an age-structured model and are a Tier 3a species, unlike yellowtail and widow rockfish, which are Tier 5 species. This separation allows managers to treat dusky rockfish like other rockfish species in Tier 3a with age-structured models and to have an OFL and ABC specific to this species. A discussion paper reviewing this action found that this management reorganization would have no adverse economic impact on commercial fishermen in the GOA. The discussion paper indicated that the PSR fishery rarely harvested the TAC. Therefore, a reduction in TACs associated with the shift in species would be inconsequential. The paper also concluded that it would not have an adverse impact on participants in the Central Gulf of Alaska Rockfish Program (GOA FMP Amendment 88). The action has the effect of increasing the OFL and ABC for other rockfish. Thus, this action is not expected to have an adverse impact on small entities.

Impacts on marine mammals resulting from fishing activities conducted under this rule are discussed in the EIS (see ADDRESSES).

Pursuant to 5 U.S.C. 553(d)(3), the Acting Assistant Administrator for Fisheries, NOAA, finds good cause to waive the 30-day delay in effectiveness for this rule, because delaying this rule is contrary to the public interest. The Plan Team review occurred in November 2011, and Council consideration and recommendations occurred in December 2011. Accordingly, NMFS review could not begin until January 2012. For all fisheries not currently closed because the TACs established under the final 2011 and 2012 harvest specifications (76 FR 11111, March 1, 2011) were not reached, it is possible that they would be closed prior to the expiration of a 30-day delayed effectiveness period, because their TACs could be reached within that time period. If implemented immediately, this rule would allow these fisheries to continue to fish because the new TACs implemented by this rule are higher than the ones under which they are currently fishing.

Certain fisheries, such as those for pollock and Pacific cod are intensive, fast-paced fisheries. Other fisheries, such as those for sablefish, flatfish, rockfish, Atka mackerel, skates, squids, sharks, octopuses, and sculpins are critical as directed fisheries and as incidental catch in other fisheries. U.S. fishing vessels have demonstrated the capacity to catch the TAC allocations in many of these fisheries. If this rule allowed for a 30-day delay in effectiveness and if a TAC is reached, NMFS would close directed fishing or prohibit retention for the applicable species. Any delay in allocating the final TACs in these fisheries would cause confusion to the industry and potential economic harm through unnecessary discards. Waiving the 30-day delay allows NMFS to prevent economic loss to fishermen that could otherwise occur should the 2012 TACs be reached. Determining which fisheries may close is impossible because these fisheries are affected by several factors that cannot be predicted in advance, including fishing effort, weather, movement of fishery stocks, and market price. Furthermore, the closure of one fishery has a cascading effect on other fisheries by freeing-up fishing vessels, allowing them to move from closed fisheries to open ones, increasing the fishing capacity in those open fisheries, and causing them to close at an accelerated pace.

In fisheries subject to declining sideboards, a failure to implement the updated sideboards before initial season's end could deny the intended economic protection to the non-sideboarded sectors. Conversely, in fisheries with increasing sideboards, economic benefit could be denied to the sideboarded sectors.

If the final harvest specifications are not effective by March 17, 2012, which is the start of the 2012 Pacific halibut season as specified by the IPHC, the hook-and-line sablefish fishery will not begin concurrently with the Pacific halibut IFQ season. This would result in confusion for the industry and economic harm from unnecessary discard of sablefish that are caught along with Pacific halibut, as both hook-and-line sablefish and Pacific halibut are managed under the same IFQ program. Immediate effectiveness of the final 2012 and 2013 harvest specifications will allow the sablefish IFQ fishery to begin concurrently with the Pacific halibut IFQ season. Also, the immediate effectiveness of this action is required to provide consistent management and conservation of fishery resources based on the best available scientific information. This is particularly true for those species that have lower 2012 ABCs and TACs than those established in the 2011 and 2012 harvest specifications (76 FR 11111, March 1, 2011). Immediate effectiveness also would give the fishing industry the earliest possible opportunity to plan and conduct its fishing operations with respect to new information about TACs. Therefore, NMFS finds good cause to waive the 30-day delay in effectiveness under 5 U.S.C. 553(d)(3).

Small Entity Compliance Guide

The following information is a plain language guide to assist small entities in complying with this final rule as required by the Small Business Regulatory Enforcement Fairness Act of 1996. This final rule's primary purpose is to announce the final 2012 and 2013 harvest specifications and prohibited species bycatch allowances for the groundfish fisheries of the GOA. This action is necessary to establish harvest limits and associated management measures for groundfish during the 2012 and 2013 fishing years, and to accomplish the goals and objectives of the FMP. This action affects all fishermen who participate in the GOA fisheries. The specific amounts of OFL, ABC, TAC, and PSC are provided in tables to assist the reader. NMFS will announce closures of directed fishing in the Federal Register and information bulletins released by the Alaska Region. Affected fishermen should keep themselves informed of such closures.

Authority: 16 U.S.C. 773 et seq.; 16 U.S.C. 1540 (f), 1801 et seq.; 16 U.S.C. 3631 et seq.; Pub. L. 105-277; Pub. L. 106-31; Pub. L. 106-554; Pub. L. 108-199; Pub. L. 108-447; Pub. L. 109-241; Pub. L. 109-479.

Dated: March 7, 2012.
Alan D. Risenhoover,
Acting Deputy Assistant Administrator for Regulatory Programs, National Marine Fisheries Service.

[FR Doc. 2012-6057 Filed 3-13-12; 8:45 am]

BILLING CODE 3510-22-P